DEPARTMENT OF THE INTERIOR

Bureau of Indian Affairs

[178A2100DD/AAKC001030/A0A501010.999900 253G]

Indian Child Welfare Act; Designated Tribal Agents for Service of Notice

AGENCY: Bureau of Indians Affairs, Interior.

ACTION: Notice.

SUMMARY: The regulations implementing the Indian Child Welfare Act provide that Indian Tribes may designate an agent other than the Tribal chairman for service of notice of proceedings under the Act. This notice includes the current list of designated Tribal agents for service of notice.

FOR FURTHER INFORMATION CONTACT: Evangeline Campbell, Bureau of Indian Affairs, Division of Human Services, 1849 C Street NW., MS-4513-MIB, Washington, DC 20240; Phone: (202) 513-7642.

SUPPLEMENTARY INFORMATION: The regulations implementing the Indian Child Welfare Act, 25 U.S.C. 1901 et seq., provide that Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Principal Deputy Assistant Secretary—Indian Affairs by 209 DM 8.

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Regional Director by registered or certified mail with return receipt requested or by personal delivery. See 25 CFR 23.11.

If the identity or location of the child's parents, the child's Indian custodian, or the Tribes in which the Indian child is a member or eligible for membership cannot be ascertained, but there is reason to know the child is an Indian child, notice of the child-custody proceeding must be sent to the appropriate Bureau of Indian Affairs (BIA) Regional Director (see www.bia.gov). See 25 CFR 23.111.

No notices, except for final adoption decrees, are required to be sent to the BIA Central Office in Washington, DC.

This notice presents, in two different formats, the names and addresses of current designated Tribal agents for service of notice, and includes each designated Tribal agent received by the Secretary of the Interior prior to the date of this publication. Part A, published in this notice, lists designated Tribal agents by region and alphabetically by Tribe within each region. Part A is also available electronically at: http://www.bia.gov/WhoWeAre/BIA/OIS/HumanServices/index.htm.

Part B is a table that lists designated Tribal agents alphabetically by the Tribal affiliation (first listing American Indian Tribes, then listing Alaska Native Tribes). Part B is only available electronically at: http://www.bia.gov/WhoWeAre/BIA/OIS/HumanServices/index.htm.

Each format also lists the BIA's contact(s) for each of the twelve regions.

A. List of Designated Tribal Agents by Region

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

A. List of Designated Tribal Agents by Region

1. Alaska Region

Alaska Regional Director, Bureau of Indian Affairs, 3601 C Street, Suite 1100 Anchorage, Alaska 99503; Phone: (907) 271-4111.

Tribe | ICWA POC | Mailing address | Phone number | Fax number | Email address
Afognak, Native Village of | Denise Malutin, ICWA Worker; Taletha Gertz, ICWA Worker | 323 Carolyn Street Kodiak, AK 99615 | (907) 486-6357 | (907) 486-6529 | denise@afognak.org; taletha@afognak.org
Agdaagux Tribe of King Cove | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Akhiok, Native Village of | Cassie Keplinger, ICWA Coordinator | Kodiak Area Native Association, 3449 Rezanof Drive East, Kodiak, AK 99615 | (907) 486-1370 | (907) 486-4829 | cassie.keplinger@kodiakhealthcare.org
Akiachak Native Community | Georgianna Wassilie, ICWA Worker | P.O. Box 51070, Akiachak, AK 99551 | (907) 825-4626 Ext. 204 | (907) 825-4029 | gwassilie@avcp.org
Akiachak Native Community | Valerie Andrew, ICWA Director | Association of Village Council Presidents, P.O. Box 219, Bethel, AK 99559 | (907) 543-7461 | (907) 543-5759 | VAndrew@avcp.com
Akiak Native Community | Leann Jackson, ICWA Director | P.O. Box 52127, Akiak, AK 99552 | (907) 765-7112 | (907) 765-7512 | Akiak.icwa16@gmail.com
Akutan, Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Alakanuk, Native Village of | Charlene Striling, ICWA Worker | Box 149, Alakanuk, AK 99554 | (907) 238-3704 | (907) 238-3705; (907) 238-3429 | cstriling@avcp.org
Alakanuk, Native Village of | Valerie Andrew, ICWA Director | Association of Village Council Presidents, P.O. Box 219, Bethel, AK 99559 | (907) 543-7461 | (907) 543-5759 | VAndrew@avcp.com
Alatna Village | Tribal Family Specialist | P.O. Box 70, Allakaket, AK 99720 | (907) 968-2261 | (907) 968-2305 |
Alatna Village |  | Tanana Chiefs Conference, Legal Department, 122 First Avenue, Suite 600, Fairbanks, AK 99701 | (907) 452-8251 Ext. 3178 | (907) 459-3953 |
Aleknagik, Native Village of | Allen Ilutsik, Tribal Administrator; Marie Aloysius, President | ICWA, P.O. Box 115, Aleknagik, AK 99555 | (907) 842-2080 | (907) 842-2081 |
Aleknagik, Native Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Algaaciq Native Village (St. Mary's) | Theresa Kelly, ICWA Worker and Sven Paukan, Tribal Administrator | Box 48, St. Mary's, AK 99658 | (907) 438-2335 | (907) 438-2227 | tkelly@avcp.org
Algaaciq Native Village (St. Mary's) | Valerie Andrew, ICWA Director | Association of Village Council Presidents, P.O. Box 219, Bethel, AK 99559 | (907) 543-7461 | (907) 543-5759 | VAndrew@avcp.com
Allakaket Village | Tribal Family Youth Specialist | P.O. Box 50, Allakaket, AK 99720 | (907) 968-2237 | (907) 968-2233 | allakaket@tananachiefs.org
Allakaket Village |  | Tanana Chiefs Conference, Legal Department, 122 First Avenue, Suite 600, Fairbanks, AK 99701 | (907) 452-8251 Ext. 3178 | (907) 459-3953
Ambler, Native Village of | Beatrice Miller, ICWA Coordinator; Katherine Cleveland, First Chief Tribal Council | P.O. Box 47, Ambler, AK 99786 | (907) 445-2189; (907) 445-5051; (907) 445-5051 | (907) 445-2257 | icwa@ivisaappaat.org
Anaktuvuk Pass Village of | Joshua Stein, ICWA Program Manager | Arctic Slope Native Association, P.O. Box 1232, Barrow, AK 99723 | (907) 852-9374 | (907) 852-2763 | Joshua.stein@arcticslope.org
Andreafski (see Yupiit of Andreafski)
Angoon Community Association | Marcie Kookesh, ICWA Worker | P.O. Box 328, Angoon, AK, 99820 | (907) 788-3411 | (907) 788-3412 | mkookesh.agntribe@gmail.com
Aniak, Village of | Muriel Morgan, ICWA Worker; Laura Simeon, Tribal Administrator | P.O. Box 349, Aniak, AK 99557 | (907) 675-4349 | (907) 675-4513 | twinksmorgan@gmail.com; aniaktribe@gmail.com
Anvik Village | Tami Jerue, Tribal Family Youth Specialist | P.O. Box 10, Anvik, AK 99558 | (907) 663-6388 | (907) 663-6357 | tamijerue59@gmail.com
Anvik Village |  | Tanana Chiefs Conference, Legal Department, 122 First Avenue, Suite 600, Fairbanks, AK 99701 | (907) 452-8251 Ext. 3178 | (907) 459-3953
Arctic Village | Margorie Gemmill, Tribal Family Youth Specialist | P.O. Box 22069, Arctic Village, AK 99722 | (907) 587-5523 | (907) 587-5523
Arctic Village |  | Tanana Chiefs Conference, Legal Department, 122 First Avenue, Suite 600, Fairbanks, AK 99701 | (907) 452-8251 Ext. 3178 | (907) 459-3953
Asa'carsarmiut Tribe (formerly Native Village of Mountain Village) | Evelyn Peterson, Director of Social Services & Education; Daphne Joe, Director of Social Services & Education | P.O. Box 32107, Mountain Village, AK 99632 | (907) 591-2814; (907) 591-2815 | (907) 591-2428 | atcicwa@gci.net
Atka, Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Atmautluak, Village of | Daniel Waska, Tribal Administrator | P.O. Box 6568, Atmautluak, AK 99559 | (907) 553-5610 | (907) 553-5610 | atmautluaktc@gmail.com
Atqasuk Village |  | P.O. Box 91108, Atqasuk, AK 99791 | (907) 633-2575 | (907) 633-2576
Atqasuk Village | Joshua Stein, ICWA Program Manager | Arctic Slope Native Association, P.O. Box 1232, Barrow, AK 99723 | (907) 852-9374 | (907) 852-9152 | Joshua.stein@arcticslope.org
Barrow Inupiat Traditional Government | Marjorie Solomon, Social Services Workforce Director | P.O. Box 1130 Barrow, AK 99723 | (907) 852-4411 | (907) 852-4413 | marjorie.solomon@nvbarrow.net
Beaver Village | Arlene Pitka, Tribal Family Youth Specialist | P.O. Box 24029, Beaver, AK 99724 | (907) 628-6126; (907) 628-2252 | (907) 628-6185
Beaver Village |  | Tanana Chiefs Conference, Legal Department, 122 First Avenue, Suite 600, Fairbanks, AK 99701 | (907) 452-8251 Ext. 3178 | (907) 459-3953
Belkofski Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Bethel (see Orutsararmuit Native Council)
Bettles Field (see Evansville Village)
Bill Moore's Slough, Village of | Nancy C. Andrews, ICWA Worker; Philomena Keyes, Tribal Administrator | P.O. Box 20288, Kotlik, AK 99620 | (907) 899-4232; (907) 899-4236 | (907) 899-4002 | nacnadrews123@gmail.com; bms99620@gmail.com
Birch Creek Tribe | Jackie Balaam, Tribal Family Youth Specialist | 3202 Shell Street, Fairbanks, AK 99701 | (907) 378-1573 | (907) 374-9925
Birch Creek Tribe |  | Tanana Chiefs Conference, Legal Department, 122 First Avenue, Suite 600, Fairbanks, AK 99701 | (907) 452-8251 Ext. 3178 | (907) 459-3953
Brevig Mission, Native Village of | Linda Divers, Tribal Family Coordinator | P.O. Box 85039, Brevig Mission, AK 99785 | (907) 642-2185 | (907) 642-3042 | tfc.kts@kawerak.org
Brevig Mission, Native Village of | Traci McGarry, Program Director | Kawerak, Inc., Children & Family Services, P.O. Box 948 Nome, AK 99762 | (907) 443-4376 | (907) 443-4474 | cfsdir@kawerak.org
Buckland, Native Village of | Mona Washington, IRA Administrator | P.O. Box 67, Buckland, AK 99727 | (907) 494-2171 | (907) 494-2192 | tribeadmin@nunachiak.org
Cantwell, Native Village of | Ashley Hicks, ICWA Advocate | P.O. Box 94, Cantwell, AK 99729, Drawer H, Copper Center, AK 99573 | (907) 822-5241 Ext. 2071 | (907) 822-8800 | ahicks@crnative.org
Central Council of the Tlingit and Haida Indian Tribes of Alaska | Barbara Dude, Child Welfare Program Specialist | 320 W. Willoughby Ave., Suite 300, Juneau, AK 99801 | (907) 463-7169 | (907) 885-0032 | icwamail@ccthita-nsn.gov
Chalkyitsik Village | Tamara Henry, Tribal Family Youth Specialist | P.O. Box 57, Chalkyitsik, AK 99788 | (907) 848-8117 | (907) 848-8986
Chalkyitsik Village |  | Tanana Chiefs Conference, Legal Department, 122 First Avenue, Suite 600, Fairbanks, AK 99701 | (907) 452-8251 Ext. 3178 | (907) 459-3953
Chenega, Native Village of | Norma J. Selanoff, ICWA Representative | P.O. Box 8079, Chenega Bay, AK 99574-8079 | (907) 573-5386 |  | taaira@nativevillageofchenega.com
Cheesh-Na Tribe | Cecil Sanford, Tribal Administrator | P.O. Box 241, Gakona, AK 99586 | (907) 822-3503 | (907) 822-5179 | csanford@cheeshna.com
Chefornak, Village of | Edward Kinegak, ICWA Specialist; Bernadette Lewis, Tribal Administrator | P.O. Box 110, Chefornak, AK, 99651 | (907) 867-8808 | (907) 867-8711 | ekinegak@avcp.org; tccftribe@gmail.com
Chefornak, Village of | Valerie Andrew, ICWA DIrector | Association of Village Council Presidents, P.O. Box 219, Bethel, AK 99559 | (907) 543-7461 | (907) 543-5759 | VAndrew@avcp.com
Chevak Native Village | Natasia Ulroan, ICWA Worker | Box 140, Chevak, AK 99563 | (907) 858-7918 | (907) 858-7919; (907) 858-7812 | nulroan@avcp.org
Chevak Native Village | Valerie Andrew, ICWA DIrector | Association of Village Council Presidents, P.O. Box 219, Bethel, AK 99559 | (907) 543-7461 | (907) 543-5759 | VAndrew@avcp.com
Chickaloon Native Village | Penny Westing, ICWA Case Manager | P.O. Box 1105, Chickaloon, AK 99674-1105 | (907) 745-0749 | (907) 745-0709 | penny@chickaloon.org
Chignik Bay Tribal Council | Debbie Carlson, Administrator; Roberick Carlson, President | Box 11, Chignik Bay, AK 99564 | (907) 749-2445 | (907) 749-2423
Chignik Bay Tribal Council | Crystal Nixon-Luckhurst, Children's Services Division Manager | Bristol Bay Native Association, Children's Services Division Manager, P.O. Box 310, 1500 Kanakanak Road, Dillingham, AK 99576 | (907) 842-4139 | (907) 842-4106 | cnixon@bbna.com
Chignik Lagoon, Native Village of | Delissa McCormick, Tribal Administrator; Clemenes Grunert, President | ICWA, P.O. Box 09, Chignik Lagoon, AK 99565 | (907) 840-2281 | (907) 840-2217 | chigniklagoonicwa@bbna.com
Chignik Lagoon, Native Village of | Crystal Nixon-Luckhurst, Children's Services Division Manager | Bristol Bay Native Association, P.O. Box 310, 1500 Kanakanak Road, Dillingham, AK 99576 | (907) 842-4139 | (907) 842-4106 | cnixon@bbna.com
Chignik Lake Village | Shirley Kalmakoff, Administrator; John Lind, President | P.O. Box 33, Chignik Lake, AK 99548 | (907) 845-2212 | (907) 845-2217 | chigniklakevillagecouncil@gmail.com
Chignik Lake Village | Crystal Nixon-Luckhurst, Children's Services Division Manager | Bristol Bay Native Association, P.O. Box 310, 1500 Kanakanak Road, Dillingham, AK 99576 | (907) 842-4139 | (907) 842-4106 | cnixon@bbna.com
Chilkat Indian Village | Carrie-Ann Durr, ICWA Caseworker | HC 60, Box 2207, Haines, AK 99827 | (907) 767-5505 Ext. 228 | (907) 767-5408 | cdurr@chilkat-nsn.gov
Chilkoot Indian Association | Kelsey Taylor, Family Caseworker | P.O. Box 624, Haines, AK 99827 | (907) 766-2323 | (907) 885-0032
Chinik Eskimo Community (aka Golovin) | Kirstie Ione, Tribal Family Coordinator | P.O. Box 62019, Golovin, AK 99762 | (907) 779-3489 | (907) 779-2000 | tfc.glv@kawerak.org
Chinik Eskimo Community (aka Golovin) | Traci McGarry, Program Director | Kawerak, Inc., Children & Family Services, P.O. Box 948, Nome, AK 99762 | (907) 443-4376 | (907) 443-4474 | cfsdir@kawerak.org
Chistochina (see Cheesh-na Tribe)
Chitina, Native Village of | Tribal President and Tribal Administrator | P.O. Box 31, Chitina, AK 99566 | (907) 823-2215 | (907) 823-2233
Chuathbaluk, Native Village of | Teresa Simeon-Hunter, ICWA Worker | Box CHU, Chuathbaluk, AK 99557 | (907) 467-4313 | (907) 467-4113 | ctc.teresahunter@gmail.com
Chuathbaluk, Native Village of | Valerie Andrew, ICWA Director | Association of Village Council Presidents, P.O. Box 219, Bethel, AK 99559 | (907) 543-7461 | (907) 543-5759 | VAndrew@avcp.com
Chuloonawick Native Village | Tribal Administrator | P.O. Box 245, Emmonak, AK 99581 | (907) 949-1345 | (907) 949-1346
Circle Native Community | Jessica Fields, Tribal Family Youth Specialist | P.O. Box 89, Circle, AK 99733 | (907) 773-2822 | (907) 773-2823 | Jessica.boyle@tananachiefs.org
Circle Native Community |  | Tanana Chiefs Conference, Legal Department, 122 First Avenue, Suite 600, Fairbanks, AK 99701 | (907) 452-8251 Ext. 3178 | (907) 459-3953
Clarks Point, Village of | Danielle Aikins, Administrator; Betty Gardiner, President | P.O. Box 90, Clarks Point, AK 99569 | (907) 236-1427 | (907) 236-1428 | clarkspointadmin@bbna.com
Clarks Point, Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Copper River Native Association | Ashley Hicks, ICWA Advocate | Drawer H, Copper Center, Alaska 99573 | (907) 822-5241 Ext. 2071 | (907) 822-8800 | ahicks@crnative.org
Copper Center (see Native Village of Kluti-Kaah)
Cordova (see Eyak)
Council, Native Village of | Leo Charles, Tribal Family Coordinator | P.O. Box 2050, Nome, AK 99762 | (907) 443-7649 | (907) 443-6433 | tfc.cou@kawaerak.org
Council, Native Village of | Traci McGarry, Program Director | Kawerak, Inc., Children & Family Services, P.O. Box 948, Nome, AK 99762 | (907) 443-4376 | (907) 443-4474 | cfsdir@kawerak.org
Craig Tribal Association | Roberta Patten, Family Caseworker I | P.O. Box, 746, Craig, AK 99921 | (907) 826-3948 | (907) 885-0032
Craig Tribal Association | Barbara Dude, Child Welfare Program Specialist | Central Council of the Tlingit and Haida Indian Tribes of Alaska, 320 W. Willoughby Ave., Suite 300, Juneau, AK 99801 | (907) 463-7169 | (907) 885-0032 | icwamail@ccthita.org
Crooked Creek, Native Village of | Helen Macar, ICWA Worker and Tribal Administrator | P.O. Box 69, Crooked Creek, AK 99575 | (907) 432-2200 | (907) 432-2201 | bbcc@starband.net
Curyung Tribal Council, (formerly the Native Village of Dillingham) | Dorothy B. Lason, Administrator; Christopher Maines, Clerk; Thomas Tilden, President | ICWA, P.O. Box 216, Dillingham, AK 99576 | (907) 842-2384 | (907) 842-4510 | dorothy@curyuingtribe.com; chrism@curyungtribe.com
Curyung Tribal Council, (formerly the Native Village of Dillingham) | Crystal Nixon-Luckhurst, Children's Services Division Manager | Bristol Bay Native Association, Children's Services Division Manager, P.O. Box 310, 1500 Kanakanak Road, Dillingham, AK 99576 | (907) 842-2384 | (907) 842-4106 | cnixon@bbna.com
Deering, Native Village of | Pearl Moto, ICWA Coordinator; Delores Iyatunguk, Administrator | P.O. Box 36089, Deering, AK 99736 | (907) 363-2138 | (907) 363-2195 | drgicwa@gmail.com; Tribaladmin@ipnatchiaq.org
Deering, Native Village of | Jackie Hill, Director Tribal Assistance Programs | Maniilaq Association, Family Services, P.O. Box 256, Kotzebue, AK 99752 | (907) 442-7879 | (907) 442-7833 | Jackie.hill@maniilaq.org
Dillingham (see Curyung Tribal Council)
Diomede (aka Inalik) Native Village of | Leo Charles, Tribal Family Coordinator | P.O. Box 7079, Nome, AK 99762 | (907) 443-4261 | (907) 443-4464 | tfc.dio@kawerak.org
Diomede (aka Inalik) Native Village of | Traci McGarry, Program Director | Kawerak, Inc. Children & Family Services, P.O. Box 948, Nome, AK 99762 | (907) 443-4376 | (907) 443-4474 | cfsdir@kawerak.org
Dot Lake, Village of | Clara Perdue, Tribal Family Youth Specialist | P.O. Box 2279, Dot Lake, AK 99737 | (907) 882-2695 | (907) 882-5558
Dot Lake, Village of |  | Tanana Chiefs Conference, Legal Department, 122 First Avenue, Suite 600, Fairbanks, AK 99701 | (907) 452-8251 Ext. 3178 | (907) 459-3953
Douglas Indian Association | Loretta (Betty) Marvin, Family Caseworker | 811 West 12th Street, Juneau, AK 99801 | (907) 364-2983; (907) 364-2916 | (907) 364-2917 | bmarvin-dia@gci.net
Eagle, Native Village of | Claire Ashley, Tribal Family Youth Specialist | P.O. Box 19, Eagle, AK 99738 | (907) 547-2271 | (907) 547-2318 | Claire.ashley@tananachiefs.org
Eagle, Native Village of |  | Tanana Chiefs Conference, Legal Department, 122 First Avenue, Suite 600, Fairbanks, AK 99701 | (907) 452-8251 Ext. 3178 | (907) 459-3953
Edzeno (see Nikolai Village)
Eek, Native Village of | Lillian Cleveland, ICWA Worker | Box 89, Eek, AK 99578 | (907) 536-5572 | (907) 536-5582; (907) 536-5711 | lcleveland@avcp.org
Eek, Native Village of | Valerie Andrew, ICWA Director | Association of Village Council Presidents, P.O. Box 219, Bethel, AK 99559 | (907) 543-7461 | (907) 543-5759 | VAndrew@avcp.com
Egegik Village | Pamela Hainsel, Administrator; Kevin Deigh, President | ICWA, P.O. Box 29, Egegik, AK 99579 | (907) 233-2211 | (907) 233-2312
Egegik Village | Crystal Nixon-Luckhurst, Children's Services Division Manager | Bristol Bay Native Association, Children's Services Division Manager, P.O. Box 310, 1500 Kanakanak Road, Dillingham, AK 99576 | (907) 842-4139 | (907) 842-4106 | cnixon@bbna.com
Eklutna, Native Village of | Jamison M. Cole, ICWA Worker, Social Services Director; Richard Farber, Tribal Administrator | P.O. Box 26339, Chugiak, AK 99567 | (907) 688-6031; (907) 688-1808 | (907) 688-6032 | nve.icwa@eklutna-nsn.gov; nvess@mtaonline.net
Ekuk Native Village of | Kristy Peters, Administrator; Robert Heyano, President, | P.O. Box 530, Dillingham, AK 99576 | (907) 842-3842 | (907) 842-3843 | kristy@ekukbc.net
Ekuk Native Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Ekwok, Native Village of | Richard King, Administrator; Luki Akelkok Sr., President | P.O. Box 70, Ekwok, AK 99580 | (907) 464-3336 | (907) 464-3378
Ekwok, Native Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Elim, Native Village of | Joseph Murray, Tribal Family Coordinator | P.O. Box 70, Elim, AK 99739 | (907) 890-2457 | (907) 890-2458 | jmurrayjr@kawerak.org
Elim, Native Village of | Traci McGarry, Program Director | Kawerak, Inc. Children & Family Services, P.O. Box 948, Nome, AK 99762 | (907) 443-4376 | (907) 443-4474 | cfsdir@kawerak.org
Emmonak Village | Sharon Oktoyak, Tribal Administrator | P.O. Box 126, Emmonak, AK 99581 | (907) 949-1720 | (907) 949-1384 | emktribal@gmail.com
English Bay (see Native Village of Nanwalek)
Evansville Village (aka Bettles Field) | Naomi Costello, Tribal Administrator | P.O. Box 26087, Bettles Field, AK 99726 | (907) 692-5005 | (907) 692-5006 | evanvillealaska@gmail.com
Evansville Village (aka Bettles Field) |  | Tanana Chiefs Conference, Legal Department, 122 First Avenue, Suite 600, Fairbanks, AK 99701 | (907) 452-8251 Ext. 3178 | (907) 459-3953 |
Eyak, Native Village, (Cordova) | Cheryl Evridge, ICWA Coordinator | P.O. Box 1388, Cordova, AK 99574 | (907) 424-2232 | (907) 424-7809 | cheryl@eyak-nsn.gov; icwa@eyak-nsn.gov
False Pass Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Fort Yukon, Native Village (See Gwichyaa Zhee Gwich'in)
Fortuna Ledge (see Native Village of Marshall)
Gakona, Native Village of | Lisa Nicolai, ICWA Worker | P.O. Box 102, Gakona, AK 99586 | (907) 822-5777 | (907) 822-5997 | gakonaprojects@gmail.com
Galena Village (aka Louden Village) | Tribal Administrator | P.O. Box 244, Galena, AK 99741 | (907) 656-1711 | (907) 656-2491 | suziej.sam@loudentribe.com
Gambell, Native Village of | Susie Sam, Tribal Administrator/ICWA Director | P.O. Box 90, Gambell, AK 99742 | (907) 985-5346 | (907) 985-5014 | tfc.gam@kawerakj.org
Georgetown, Native Village of | Will Hartman, Tribal Administrator | 5313 Arctic Blvd., Suite 104, Anchorage, AK 99518 | (907) 274-2195 | (907) 274-2196 | gtc@gci.net
Golovin (see Chinik Eskimo Community)
Goodnews Bay, Native Village of | Pauline Echuk, ICWA Worker | P.O. Box 138, Goodnews Bay, AK 99589 | (907) 967-8331 | (907) 967-8330 | pechuck@avcp.org
Goodnews Bay, Native Village of | Valerie Andrew, ICWA Director | Association of Village Council Presidents, P.O. Box 219, Bethel, AK 99559 | (907) 543-7461 | (907) 543-5759 | VAndrew@avcp.com
Grayling (see Organized Village of Grayling)
Gulkana Village | Rachel Stratton, Family Services Specialist | P.O. Box 254, Gakona, AK 99586 | (907) 822-5363 | (907) 822-3976 | icwa@gulkanacouncil.org
Gwichyaa Zhee Gwich'in (formerly Native Village of Fort Yukon) | Arlene Peter, Tribal Family Youth Specialist | P.O. Box 10, Fort Yukon, AK 99740 | (907) 662-3625 | (907) 662-3118 | arlene.peter@fortyukon.org
Gwichyaa Zhee Gwich'in (formerly Native Village of Fort Yukon) |  | Tanana Chiefs Conference, Legal Department, 122 First Avenue, Suite 600, Fairbanks, AK 99701 | (907) 452-8251 Ext. 3178 | (907) 459-3953
Haines (see Chilkoot Indian Association)
Hamilton Native Village of | Henrietta Teeluk, ICWA Worker | P.O. Box 20248, Hamilton, AK 99620 | (907) 899-4252; (907) 899-4255 | (907) 899-4202
Hamilton Native Village of | Valerie Andrew, ICWA Director | Association of Village Council Presidents, P.O. Box 219, Bethel, AK 99559 | (907) 543-7461 | (907) 543-5759 | VAndrew@avcp.com
Healy Lake Village | Tribal Family Youth Specialist | P.O. Box 60300, Healy Lake, AK 99706 | (907) 876-5018 | (907) 876-5013
Healy Lake Village |  | Tanana Chiefs Conference, Legal Department, 122 First Avenue, Suite 600, Fairbanks, AK 99701 | (907) 452-8251 Ext. 3178 | (907) 459-3953
Holikachuk (see Grayling)
Holy Cross Village | Rebecca Demientieff, Tribal Family Youth Specialist | P.O. Box 191, Holy Cross, AK 99602 | (907) 476-7249 | (907) 476-7132 | rebecca.demientieff@tananachiefs.org
Holy Cross Village |  | Tanana Chiefs Conference, Legal Department, 122 First Avenue, Suite 600, Fairbanks, AK 99701 | (907) 452-8251 Ext. 3178 | (907) 459-3953
Hoonah Indian Association | Candy Keown, Human Services Department Director | P.O. Box 602, Hoonah, AK 99829 | (907) 945-3545 | (907) 945-3703 | ckeown@hiatribe.org
Hooper Bay, Native Village | Irene Smith, ICWA Worker | Box 69, Hooper Bay, AK 99604 | (907) 758-4006 | (907) 758-4606; (907) 758-4066 | psemaken@avcp.org
Hooper Bay, Native Village | Valerie Andrew, ICWA Director | Association of Village Council Presidents, P.O. Box 219, Bethel, AK 99559 | (907) 543-7461 | (907) 543-5759 | VAndrew@avcp.com
Hughes Village | Ella Sam, Tribal Family Youth Specialist | P.O. Box 45029, Hughes, AK 99745 | (907) 889-2261 | (907) 889-2252 | ella.sam@tananachiefs.org
Hughes Village |  | Tanana Chiefs Conference, Legal Department, 122 First Avenue, Suite 600, Fairbanks, AK 99701 | (907) 452-8251 Ext. 3178 | (907) 459-3953
Huslia Village | Vivian Robb, Tribal Family Youth Specialist | P.O. Box 70, Huslia, AK 99746 | (907) 829-2202 | (907) 829-2214 | huslia@tananachief.org
Huslia Village |  | Tanana Chiefs Conference, Legal Department, 122 First Avenue, Suite 600, Fairbanks, AK 99701 | (907) 452-8251 Ext. 3178 | (907) 459-3953
Hydaburg Cooperative Association | Colleen Kashevarof, Human Services Director | P.O. Box 349, Hydaburg, AK 99922 | (907) 285-3662 | (907) 285-3541 | Hcahumanservices@gmail.com
Igiugig Village | Tanya Salmon, ICWA Worker; Alex Anna Salmon, Tribal Administrator | P.O. Box 4054, Igiugig, AK 99613 | (907) 533-3211 | (907) 533-3217 | tanya.jo.salmon@gmail.com; iguigig.vc@gmail.com
Iliamna, Village of | Louise Anelon, ICWA Worker; Dolly Ann Trefon, Tribal Administrator | P.O. Box 286, Iliamna, AK 99606 | (907) 571-3532; (907) 571-1246 | (907) 571-3539 | louise.anelon@iliamnavc.org
Inupiat Community of the Arctic Slope | Marie H. Ahsoak, Social Services Director | P.O. Box 934, Barrow, AK 99723 | (907) 852-5923 | (907) 852-5924 | social@inupiatgov.com
Iqurmuit Traditional Council (aka Russian Mission) | Katie Nick, ICWA Worker | P.O. Box 38, Russian Mission, AK 99657 | (907) 584-5594 | (907) 584-5596; (907) 584-5593 | knick@avcp.org
Iqurmuit Traditional Council (aka Russian Mission) | Valerie Andrew, ICWA Director | Association of Village Council Presidents, P.O. Box 219, Bethel, AK 99559 | (907) 543-7461 | (907) 543-5759 | VAndrew@avcp.com
Ivanoff Bay, Village of | Nicole Cabrera, Administrator; Edgar Shangin, President | 6407 Brayton Dr., Ste. 201, Anchorage, AK 99507 | (907) 522-2263 | (907) 522-2363 | ivanoffbayadmin@bbna.com
Ivanoff Bay, Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Kaguyak Village | Phyllis Amodo, Tribal President | P.O. Box 5078, Akhiok, AK 99615 | (907) 836-2231 | (907) 836-2345
Kake (see Organized Village of Kake)
Kaktovik Village of, (aka Barter Island) |  | P.O. Box 52, Kaktovik, AK 99747 | (907) 640-2042 | (907) 640-2044
Kaktovik Village of, (aka Barter Island) | Joshua Stein, ICWA Program Manager | Arctic Slope Native Association, P.O. Box 1232, Barrow, AK 99723 | (907) 852-9374 | (907) 852-2763 | Joshua.stein@arcticslope.org
Kalskag, Village of, (aka Upper Kalskag) | Nastasia Evan, ICWA Worker | P.O. Box 50, Kalskag, AK 99607 | (907) 471-2296 | (907) 471-2399
Kalskag, Village of, (aka Upper Kalskag) | Valerie Andrew, ICWA Director | Association of Village Council Presidents, P.O. Box 219, Bethel, AK 99559 | (907) 543-7461 | (907) 543-5759 | VAndrew@avcp.com
Lower Kalskag (See Lower Kalskag)
Kaltag, Village of | Kendra Ekada, Tribal Family Youth Specialist | P.O. Box 129, Kaltag, AK 99748 | (907) 534-2243; (907) 534-2224 | (907) 534-2264 | kendra.ekada@tananachiefs.org
Kaltag, Village of |  | Tanana Chiefs Conference, Legal Department, 122 First Avenue, Suite 600, Fairbanks, AK 99701 | (907) 452-8251 Ext. 3178 | (907) 459-3953
Kanatak, Native Village | Shawn Shanigan, Administrator, Henry Foster, President | P.O. Box 876822, Wasilla, AK 99687 | (907) 315-3878; (907) 357-5991 | (907) 357-5992 | kanatak@mtaonline.net
Kanatak, Native Village | Crystal Nixon-Luckhurst, Children's Services Division Manager | Bristol Bay Native Association, Children's Services Division Manager, P.O. Box 310, 1500 Kanakanak Road, Dillingham, AK 99576 | (907) 842-4139 | (907) 842-4106 | cnixon@bbna.com
Karluk, Native Village of | Kristeen Reft, Tribal Council Clerk | P.O. Box 22, Karluk, AK 99608 | (907) 241-2218 | (907) 241-2208 | karlukiracouncil@aol.com
Kassan (see Organized Village of Kasaan)
Kashnumiut Tribe (see Chevak)
Kasigluk Traditional Elders Council | Balasia Tinker, Tribal Administrator | P.O. Box 19, Kasigluk, AK 99609 | (907) 477-6405; (907) 477-6406 | (907) 477-6412 | kasigluk.admin@gmail.com
Kenaitze Indian Tribe | Katie Watkins, Director of Human and Community Services; Jaylene Petersom-Nyren, Excutive Director | P.O. Box 988, Kenai, AK 99611 | (907) 335-7610; (907) 335-7600 | (907) 202-8359 | kwatkins@kenaitze.org
Ketchikan Indian Corporation | Susan Pickrell, Deputy Social Services Director | 615 Stedman St., Suite 201, Ketchikan, AK 99901; 2960 Tongass Avenue, Ketchikan, AK 99901 | (907) 228-9378; (907) 228-9371; (907) 254-2251 | (800) 865-6310 | spickrell@kictribe.org; edewitt@kictribe.org
Kiana, Native Village of | Susan Pickrell, Deputy Social Services Director | P.O. Box 69, Kiana, AK 99749 | (907) 475-2226 | (907) 475-2266 | icwa@katyaaq.org
King Cove (see Agdaagux)
King Island Native Community | Leo Charles, Tribal Family Coordinator | P.O. Box 682, Nome, AK 99762 | (907) 443-5181 | (907) 443-8049 | tfc.ki@kawerak.org
King Island Native Community | Traci McGarry, Program Director | Kawerak, Inc. Children & Family Services, P.O. Box 948, Nome, AK 99762 | (907) 443-4376 | (907) 443-4474 | cfsdir@kawerak.org
King Salmon Tribe | Ralph Angasan, Jr., Tribal Administrator; Ralph Angasan Sr., President | P.O. Box 68, King Salmon, AK 99613 | (907) 246-3553 | (907) 246-3449 | kstvc@starband.net
Kipnuk, Native Village of | Helen Paul, ICWA Worker | P.O. Box 57, Kipnuk, AK 99614 | (907) 896-5430 | (907) 896-5704; (907) 869-5240 | hpaul@avcp.org
Kipnuk, Native Village of | Valerie Andrew, ICWA Director | Association of Village Council Presidents, P.O. Box 219, Bethel, AK 99559 | (907) 543-7461 | (907) 543-5759 | VAndrew@avcp.com
Kivalina, Native Village of | Stanley Hawley, Administrator | P.O. Box 50051, Kivalina, AK 99750 | (907) 645-2201 | (907) 645-2193 | tribeadmin@kivalini.org; millie.hawley@maniilaq.org
Kivalina, Native Village of | Jackie Hill, Tribal Director Assistance Program | Maniilaq Association, Family Services, P.O. Box 256, Kotzebue, AK 99752 | (907) 442-7870 | (907) 442-7833 | Jackie.hill@maniilaq.org
Klawock Cooperative Association | Cynthia Mills, Family Caseworker II | P.O. Box 173, Klawock, AK 99925 | (907) 755-2326 | (907) 885-2326
Klukwan (see Chilkat Indian Village)
Kluti-Kaah, Native Village of, (aka Copper Center) | Ashley Hicks, ICWA Advocate | P.O. Box 68, Copper Center, AK 99573 | (907) 822-5241 Ext. 2071 | (907) 822-8800 | ahicks@crnative.org
Knik Tribe | Geraldine Nicoli, ICWA Worker | P.O. Box 871565, Wasilla, AK 99687 | (907) 373-7938 | (907) 373-2153 | gnicoli@kniktribe.org
Kobuk, Native Village of | Tribal Administrator | P.O. Box 39, Kobuk, AK 99751 | (907) 948-2007; (907) 442-7879 | (907) 948-2123 | tribeadmin@laugvik.org
Kobuk, Native Village of | Jackie Hill, Tribal Director Assistance Program | Maniilaq Association, Family Services, P.O. Box 256, Kotzebue, AK 99752 | (907) 442-7870 | (907) 442-7833 | Jackie.hill@maniilaq.org
Kodiak Native Village of (see Sun'aq Tribe of Kodiak)
Kokhanok Village | Sassa Wassillie, Administrator; Peducia Andrew, President | ICWA, P.O. Box 1007, Kokhanok, AK 99606 | (907) 282-2202 | (907) 282-2264 | kokhanokicwa@bbna.com
Kokhanok Village | Crystal Nixon-Luckhurst, Children's Services Division Manager | Bristol Bay Native Association, Children's Services Division Manager, P.O. Box 310, 1500 Kanakanak Road, Dillingham, AK 99576 | (907) 842-4139 | (907) 842-4106 | cnixon@bbna.com
Koliganek Village (see New Kolignanek)
Kongiganak Traditional Council | Janet Otto, ICWA Worker | P.O. Box 5069, Kongiganak, AK 99545 | (907) 557-5311 | (907) 557-5348; (907) 557-5224
Kongiganak Traditional Council | Valerie Andrew, ICWA Director | Association of Village Council Presidents, P.O. Box 219, Bethel, AK 99559 | (907) 543-7461 | (907) 543-5759 | VAndrew@avcp.com
Kotlik, Village of | Reynold Okitkun, ICWA Worker | P.O. Box 20210, Kotlik, AK 99620 | (907) 899-4459 | (907) 899-4467 | ROkitkun@avcp.org
Kotlik, Village of | Valerie Andrew, ICWA Director | Association of Village Council Presidents, P.O. Box 219, Bethel, AK 99559 | (907) 543-7461 | (907) 543-5759 | VAndrew@avcp.com
Kotzebue, Native Village of | Wendie Schaeffer, Tribal Family Services Director | P.O. Box 296, Kotzebue, AK 99752 | (907) 442-3467 | (907) 442-4013 | wendie.schaeffer@qira.org
Koyuk, Native Village of | Leo Charles Sr., Tribal Family Coordinator | P.O. Box 53030, Koyuk, AK 99753 | (907) 963-2215 | (907) 963-2300
Koyuk, Native Village of | Traci McGarry, Program Director | Kawerak, Inc. Children & Family Services, P.O. Box 948, Nome, AK 99762 | (907) 443-4376 | (907) 443-4474 | cfsdir@kawerak.org
Koyukuk, Native Village of | Euphrasia Dayton-Demoski, Tribal Family Youth Specialist | P.O. Box 109, Koyukuk, AK 99754 | (907) 927-2208 | (907) 927-2220 | euphrasia.daytondemoski@tananachiefs.org
Koyukuk, Native Village of |  | Tanana Chiefs Conference, Legal Department, 122 First Avenue, Suite 600, Fairbanks, AK 99701 | (907) 452-8251 Ext. 3178 | (907) 459-3953
Kwethluk (see Organized Village of Kwethluk)
Kwigillingok, Native Village of | Andrew Beaver, Tribal Administrator | P.O. Box 90, Kwigillingok, AK 99622 | (907) 588-8114; (907) 588-8212 | (907) 588-8429
Kwinhagak (aka Quinhagak), Native Village of | Martha Nicolai, Health & Human Service Director, ICWA Worker | P.O. Box 149, Quinhagak, AK 99655 | (907) 556-8393 | (907) 556-8166 | m.mark@kwinhagak.org
Larsen Bay, Native Village of | Cassie Keplinger, ICWA Coordinator | Kodiak Area Native Association, 3449 Rezanof Drive East, Kodiak, AK 99615 | (907) 486-1370 | (907) 486-4829 | cassie.keplinger@kodiakhealthcare.org
Lesnoi Village (see Tangirnaq aka Woody Island) | Robert Stauffer | 194 Alimaq Dr., Kodiak, AK 99615 | (907) 486-9806
Levelock Village | Jennie Apokedak, Administrator; Alexander Tallekpalek, President | ICWA, P.O. Box 70, Levelock, AK 99625 | (907) 287-3031; (907) 287-3030 | (907) 287-3032 | levelockadmin@bbna.com
Levelock Village | Crystal Nixon-Luckhurst, Children's Services Division Manager | Bristol Bay Native Association, Children's Services Division Manager, P.O. Box 310, 1500 Kanakanak Road, Dillingham, AK 99576 | (907) 842-4139 | (907) 842-4106 | cnixon@bbna.com
Lime Village | Jennifer John, Tribal Administrator | P.O. Box LVD—Lime Village McGrath, AK 99627 | (907) 526-5236 | (907) 526-5235 | limevillage@gmail.com
Lime Village | Valerie Andrew, ICWA Director | Association of Village Council Presidents, P.O. Box 219, Bethel, AK 99559 | (907) 543-7461 | (907) 543-5759 | VAndrew@avcp.com
Louden (see Galena)
Lower Kalskag, Village of | Nastasia Evan, ICWA Worker | P.O. Box 27 Lower Kalskag, AK 99626 | (907) 471-2412 | (907) 471-2378; (907) 471-2378 | nevan@avcp.org
Lower Kalskag, Village of | Valerie Andrew, ICWA Director | Association of Village Council Presidents, P.O. Box 219, Bethel, AK 99559 | (907) 543-7461 | (907) 543-5759 | VAndrew@avcp.com
Manley Hot Springs Village | Elizabeth Woods, Tribal Family Youth Specialist | P.O. Box 105 Manley Hot Springs, AK 99756 | (907) 672-3177 | (907) 672-3200 | ewoods57@gmail.com
Manley Hot Springs Village |  | Tanana Chiefs Conference, Legal Department, 122 First Avenue, Suite 600, Fairbanks, AK 99701 | (907) 452-8251 Ext. 3178 | (907) 459-3953
Manokotak Village | Adrewski Toyakuk, Administrator; Jaclyn Alakayak, Clerk; Diane Mochin, President | ICWA, P.O. Box 169, Manokotak, AK 99628 | (907) 289-2074 | (907) 289-1235 | manokotakiccwa@bbna.com; monakotakclerk@bbna.com
Manokotak Village | Crystal Nixon-Luckhurst, Children's Services Division Manager | Bristol Bay Native Association, Children's Services Division Manager, P.O. Box 310, 1500 Kanakanak Road, Dillingham, AK 99576 | (907) 842-4139 | (907) 842-4106 | cnixon@bbna.com
Marshall, Native Village of | Robert Pitka, ICWA Worker; Sophie Tiffert, Tribal Administrator | P.O. Box 110, Marshall, AK 99585 | (907) 679-6302/6128 | (907) 676-6187 | rpitka@avcp.org
Marshall, Native Village of | Valerie Andrew, ICWA Director | Association of Village Council Presidents, P.O. Box 219, Bethel, AK 99559 | (907) 543-7461 | (907) 543-5759 | VAndrew@avcp.com
Mary's Igloo, Native Village of | Dolly Kugzruk, Tribal Family Coordinator | P.O. Box 629, Teller, AK 99778 | (907) 642-2185 | (907) 642-3000 | dkugzruk@kawerak.org
Mary's Igloo, Native Village of | Traci McGarry, Program Director | Kawerak, Inc. Children & Family Services, P.O. Box 948, Nome, AK 99762 | (907) 443-4376 | (907) 443-4474 | cfsdir@kawerak.org
McGrath Native Village | Gina McKindy, Tribal Family Youth Specialist | P.O. Box 134, McGrath, AK 99627 | (907) 524-3023 | (907) 524-3899
McGrath Native Village |  | Tanana Chiefs Conference, Legal Department, 122 First Avenue, Suite 600, Fairbanks, AK 99701 | (907) 452-8251 Ext. 3178 | (907) 459-3953
Mekoryuk, Native Village of | Melanie Shavings, ICWA Coordinator; Albert Williams, Tribal President | P.O. Box 66, Mekoryuk, AK 99630 | (907) 827-8828; (907) 827-8827 | (907) 827-8133 | melanie.s@mekoryuktc.org; nvmicwa@gci.net
Mentasta Traditional Council | Anita Andrews, Tribal Administrator | P.O. Box 6076, Mentasta Lake, AK 99780 | (907) 291-2319 | (907) 291-2305 | 907mlv99780ta@gmail.com
Metlakatla Indian Community | Darlene Booth, ICWA Worker | P.O. Box 8, Metlakatla, AK 99926 | (907) 886-6914 | (907) 886-6913
Minto, Native Village of | Lou Ann Williams, Tribal Family Youth Specialist | P.O. Box 26, Minto, AK 99758 | (907) 798-7007 | (907) 798-7008 | lou.williams@tananachiefs.org
Minto, Native Village of |  | Tanana Chiefs Conference, Legal Department, 122 First Avenue, Suite 600, Fairbanks, AK 99701 | (907) 452-8251 Ext. 3178 | (907) 459-3953
Mountain Village (see Asa'carsarmiut)
Naknek, Native Village | Judy Jo Matson, ICWA Coordinator | P.O. Box 210, Naknek, AK 99633 | (907) 246-4210 | (907) 246-3563 | nnvc.judyjo@gmail.com
Nanwalek, Native Village of | Desiree Swenning, ICWA Advocate | P.O. Box 8028, Nanwalek, AK 99603 | (907) 281-2274 | (907) 281-2252 | nanwalekicwa@gmail.com
Napaimute, Native Village | ICWA Worker, Tribal Administrator | P.O. Box 1301, Bethel, AK 99559 | (907) 543-2887 |  | napaimute@gci.net
Napaimute Native Village | Valerie Andrew, ICWA Director | Association of Village Council Presidents, P.O. Box 219, Bethel, AK 99559 | (907) 543-7461 | (907) 543-5759 | cofft@avcp.org
Napakiak, Native Village of | David Andrew, Tribal Administrator | P.O. Box 34114, Napakiak, AK 99634 | (907) 589-2814; (907) 589-2135 | (907) 589-2136 | lpavilla@avcp.org
Napakiak, Native Village of | Valerie Andrew, ICWA Director | Association of Village Council Presidents, P.O. Box 219, Bethel, AK 99559 | (907) 543-7461 | (907) 543-5759 | VAndrew@avcp.org
Napaskiak, Native Village of | Elizabeth Steven, ICWA Worker | P.O. Box 369, Napaskiak, AK 99559 |  |  | esteven@avcp.org
Napaskiak, Native Village of | Valerie Andrew, ICWA Director | Association of Village Council Presidents, P.O. Box 219, Bethel, AK 99559 | (907) 543-7461 | (907) 543-5759 | VAndrews@avcp.org
Nelson Lagoon, Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Nenana Native Association | Jo Ellen Noble, Tribal Family Youth Specialist | P.O. Box 369, Nenana, AK 99760 | (907) 832-5461 | (907) 832-5447 | nenanatfys@gmail.com
Nenana Native Association |  | Tanana Chiefs Conference, Legal Department, 122 First Avenue, Suite 600, Fairbanks, AK 99701 | (907) 452-8251 Ext. 3178 | (907) 459-3953
New Koliganek Village Council | Robert Larson, Administrator; Herman Nelson Sr., President | P.O. Box 5057, Koliganek, AK 99576 | (907) 596-3434 | (907) 596-3462 | newkoliganekadmin@bbna.com
New Koliganek Village Council | Crystal Nixon-Luckhurst, Children's Services Division Manager | Bristol Bay Native Association, Children's Services Division Manager, P.O. Box 310, 1500 Kanakanak Road, Dillingham, AK 99576 | (907) 842-4139 | (907) 842-4106 | cnixon@bbna.com
New Stuyahok Village | William C. Peterson, Administrator; Mary Kusma, Clerk; Peter Christopher Sr., President | ICWA, P.O. Box 49, New Stuyahok, AK 99636 | (907) 693-3173; (907) 693-3171 | (907) 693-3179 | newstuyahokadmin@bbna.com; newstuyahokclerk@bbna.comand
New Stuyahok Village | Crystal Nixon-Luckhurst, Children's Services Division Manager | Bristol Bay Native Association, Children's Services Division Manager, P.O. Box 310, 1500 Kanakanak Road, Dillingham, AK 99576 | (907) 842-4139 | (907) 842-4106 | cnixon@bbna.com
Newhalen Village | Maxine Wassillie, ICWA Worker; Joanne Wassillie, Supervisor | P.O. Box 207, Newhalen, AK 99606 | (907) 571-1410 | (907) 571-1537 | maxinewassillie@newhalentribal.com
Newtok Village | Bertha Queenie, ICWA Worker | P.O. Box 96, Newtok, AK 99559 | (907) 237-2222 |  | BQueenie@avcp.org
Nightmute, Native Village of | Tribal President & Tribal Administrator | P.O. Box 90021, Nightmute, AK 99690 | (907) 647-6215 | (907) 647-6112
Nikolai Village (aka Edzeno) | Elizabeth Paterson, Tribal Family Youth Specialist | P.O. Box 9107, Nikolai, AK, 99691 | (907) 293-2210 | (907) 293-2216
Nikolai Village (aka Edzeno) |  | Tanana Chiefs Conference, Legal Department, 122 First Avenue, Suite 600, Fairbanks, AK 99701 | (907) 452-8251 Ext. 3178 | (907) 459-3953
Nikolski IRA Council | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Ninilchik Village | Bettyann Steciw, ICWA Specialist | P.O. Box 39444, Ninilchik, AK 99639 | (907) 567-3313 | (907) 567-3354 | bettyann@ninilchiktribe-nsn.gov
Noatak, Native Village of | Pauline Mills, ICWA Coordinator | P.O. Box 89, Noatak, AK 99761 | (907) 485-2173 Ext. 22 | (907) 485-2137 | icwa@nautaaq.org
Nome Eskimo Community | Lola Stepetin, Family Services Director | 3600 San Jeronimo, Suite 138, Anchorage, AK 99508 | (907) 793-3145 | (907) 793-3127 | lola.stepetin@necalaska.org
Nondalton Village | Susan Bobby, Social Service/ICWA Worker; Fawn Silas, Administrator | P.O. Box 49, Nondalton, AK 99640 | (907) 294-2257 | (907) 294-2271 | ntcssicwa@gmail.com
Noorvik Native Community | Nellie Ballot, ICWA Worker | P.O. Box 209, Noorvik, AK, 99763 | (907) 636-2144 | (907) 636-2284 | icwa@nuurvik.org
Noorvik Native Community | Jackie Hill, Tribal Director Assistance Program | Maniilaq Association, Family Services, P.O. Box 256, Kotzebue, AK 99752 | (907) 442-7870 | (907) 442-7833 | Jackie.hill@maniilaq.org
Northway Village | Tasha Demit, ICWA Worker | P.O. Box 516, Northway, AK 99764 | (907) 778-2311 | (907) 778-2220 | icwa@aptalaska.net
Nuiqsut, Native Village of | Joshua Stein, ICWA Program Manager | Arctic Slope Native Association, P.O. Box 1232, Barrow, AK 99723 | (907) 852-9374 | (907) 852-2763 | Joshua.stein@arcticslope.org
Nulato, Native Village of | Sharon Agnes, Director of Human Services | P.O. Box 65049, Nulato, AK 99765 | (907) 898-2329 | (907) 898-2207 | Sharon.agnes62@outlook.com
Nunakauyarmiut Tribe (formerly Toksook Bay Native Village) | Marcella White, ICWA Worker | P.O. Box 37048, Toksook Bay, AK 99637 | (907) 427-7114; (907) 427-7615 | (907) 427-7714
Nunam Iqua, Native Village of, (formerly Sheldon's Point) | Darlene Pete, Tribal Administrator | P.O. Box 27, Nunam Iqua, AK 99666 | (907) 498-4184 | (907) 498-4185 | nunamtribe@gmail.com
Nunam Iqua, Native Village of, (formerly Sheldon's Point) | Valerie Andrew, ICWA Director | Association of Village Council Presidents, P.O. Box 219, Bethel, AK 99559 | (907) 543-7461 | (907) 543-5759 | VAndrew@avcp.com
Nunapitchuk, Native Village of | Aldine Simon, Community Family Service Specialist | P.O. Box 104, Nunapitchuk, AK 99641 | (907) 527-5731 | (907) 527-5740 | nunap.icwa@yuik.org
Ohagamiut, Native Village of | Sophie Tiffert, Tribal Administrator | P.O. Box 49, Marshall, AK 99585 | (907) 679-6517
Ohagamiut, Native Village of | Valerie Andrew, ICWA Director | Association of Village Council Presidents, P.O. Box 219, Bethel, AK 99559 | (907) 543-7461 | (907) 543-5759 | VAndrew@avcp.com
Old Harbor Village | Jim Cedeno, ICWA Advocate; Bobbi Anne Barnowsky, Tribal Administrator | P.O. Box 62, Old Harbor, AK 99643 | (907) 286-2315 | (907) 286-2301 | Jim.cedeno@ohtcmail.org; Bobbi.barnowsky@ohtcmail.org
Organized Village of Grayling | Johanna Hamilton, Tribal Family Youth Specialist | P.O. Box 49, Grayling, AK 99590 | (907) 453-5142 | (907) 453-5146 | johannahamilton87@gmail.com
Organized Village of Grayling |  | Tanana Chiefs Conference, Legal Department, 122 First Avenue, Suite 600, Fairbanks, AK 99701 | (907) 452-8251 Ext. 3178 | (907) 459-3953
Organized Village of Kake | Ann Jackson, Social Services Director | P.O. Box 316, Kake, AK 99830 | (907) 785-6471 | (907) 785-4902
Organized Village of Kasaan | Cynthia Mills, Family Caseworker II | P.O. Box 173, Klawock, AK 99925 | (907) 755-2326 | (907) 885-0032
Organized Village of Kwethluk | Chariton Epchook, ICWA Coordinator | P.O. Box 210, Kwethluk, AK 99621-0130 | (907) 757-6714; (907) 757-6715 | (907) 757-6328 | ovkicwa@gmail.com
Organized Village of Saxman | Patti Green, Family Caseworker | Route 2, Box 2, Ketchikan, AK 99901 | (907) 247-2502 | (907) 247-2504
Orutsararmuit Native Council | Rosemary Paul, ICWA Advocate | P.O. Box 927, Bethel, AK 99559 | (907) 543-2608 Ext. 1520 | (907) 543-2639 | rpaul@nativecouncil.org
Oscarville Traditional Village | Andrew J. Larson Jr., ICWA Worker | P.O. Box 6129, Oscarville, AK 99559 | (907) 737-7100 | (907) 737-7101; (907) 737-7428 | alarson@avcp.org
Oscarville Traditional Village | Valerie Andrew, ICWA Director | Association of Village Council Presidents, P.O. Box 219, Bethel, AK 99559 | (907) 543-7461 | (907) 543-5759 | VAndrew@avcp.com
Ouzinkie, Native Village of | Cassie Keplinger, ICWA Coordinator | Kodiak Area Native Association, 3449 Rezanof Drive East, Kodiak, AK 99615 | (907) 486-1370 | (907) 486-4829 | cassie.keplinger@kodiakhealthcare.org
Paimiut, Native Village of | Tribal President or Tribal Administrator | P.O. Box 230, Hooper Bay, AK 99604 | (907) 561-9878 | (907) 563-5398
Pauloff Harbor Village | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Pedro Bay Village | Verna Kolyaha; Program Services | Program Services, P.O. Box 47020, Pedro Bay, AK 99647 | (907) 850-2341 | (907) 885-0001 | vjkolyha@pedrobay.com
Perryville, Native Village of | Dana Lee Phillips, Administrator; Gerald Kosbruk, President | ICWA, P.O. Box 97, Perryville, AK 99648 | (907) 853-2203 | (907) 853-2230
Perryville, Native Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Petersburg Indian Association | Jeanette Ness, ICWA Caseworker | P.O. Box 1418, Petersburg, AK 99833 | (907) 772-3636 | (907) 772-3637 | icwa@piatribal.org
Pilot Point Native Village of | Suzanne Evanoff, Administrator; Victor Seybert, President | P.O. Box 449, Pilot Point, AK 99649 | (907) 797-2208 | (907) 797-2258
Pilot Point Native Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Pilot Station Traditional Village | Olga Xavier, ICWA Worker | P.O. Box 5119, Pilot Station, AK 99650 | (907) 549-3550 |  | oxavier@avcp.org
Pilot Station Traditional Village | Valerie Andrew, ICWA Director | Association of Village Council Presidents, P.O. Box 219, Bethel, AK 99559 | (907) 543-7461 | (907) 543-5759 | VAndrew@avcp.com
Pitka's Point, Native Village of | Karen Thompson, Tribal Administrator | P.O. Box 127, St. Mary's, AK 99658 | (907) 438-2833
Pitka's Point, Native Village of | Valerie Andrew, ICWA Director | Association of Village Council Presidents, P.O. Box 219, Bethel, AK 99559 | (907) 543-7461 | (907) 543-5759 | VAndrew@avcp.com
Platinum Traditional Village | Lou Adams, Tribal Administrator | P.O. Box 8, Platinum, AK 99651 | (907) 979-8220 | (907) 979-8178
Platinum Traditional Village | Valerie Andrew, ICWA Director | Association of Village Council Presidents, P.O. Box 219, Bethel, AK 99559 | (907) 543-7461 | (907) 543-5759 | VAndrew@avcp.com
Point Hope, Native Village of | Martha Douglas, Family Caseworker | P.O. Box 109, Point Hope, AK 99766 | (907) 368-3122 | (907) 368-2332 | martha.douglas@tikigaq.org
Point Lay, Native Village of | Marie Ahsoak, Social Services Director | Inupiat Community of the Arctic Slope, P.O. Box 934, Barrow, AK 99723 | (907) 852-5923 | (907) 852-5923 | social@inupiatgov.com
Port Graham, Native Village of | Patrick Norman, Chief | ICWA Program, P.O. Box 5510, Port Graham, AK 99603 | (907) 284-2227 | (907) 284-2222
Port Heiden, Native Village of, (Native Council of Port Heiden) | Adriene Active, ICWA Worker | 2200 James Street, Port Heiden, AK 99549 | (907) 837-2296 | (907) 837-2297 | adriene@portheidenalaska.com
Port Lions, Native Village | Charlea Kewan, Tribal Family Services Coordinator | P.O. Box 69, Port Lions, AK 99550 | (907) 454-2234 | (907) 454-2985 | cj.kewan@gmail.com
Portage Creek Village (aka Ohgensakale) | MaryAnn K. Johnson, Administrator; Charlie Johnson, President | 1057 fireweed Lane, Anchorage, AK 99503 | (907) 277-1105 | (907) 277-1104
Portage Creek Village (aka Ohgensakale) | Crystal Nixon-Luckhurst, Children's Services Division Manager | Bristol Bay Native Association, Children's Services Division Manager, P.O. Box 310, 1500 Kanakanak Road, Dillingham, AK 99576 | (907) 842-4139 | (907) 842-4106 | cnixon@bbna.com
Qagan Tayaguyngin Tribe of Sand Point Village | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Qawalangin Tribe of Unalaska | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Quinhagak (see Kwinhagak)
Qissunaimut Tribe (see Chevak)
Rampart Village | Tribal Family Youth Specialist | P.O. Box 29, Rampart, AK 99767 | (907) 358-3312 | (907) 358-3115 | rampart@tananachiefs.org
Rampart Village |  | Tanana Chiefs Conference, Legal Department, 122 First Avenue, Suite 600, Fairbanks, AK 99701 | (907) 452-8251 Ext. 3178 | (907) 459-3953
Red Devil, Native Village of | Tribal Administrator | P.O. Box 27, Red Devil, AK 99656
Red Devil, Native Village of | Valerie Andrew, ICWA Director | Association of Village Council Presidents, P.O. Box 219, Bethel, AK 99559 | (907) 543-7461 | (907) 543-5759 | VAndrew@avcp.com
Ruby, Native Village of | Shaelene Nickoli, Tribal Family Youth Specialist | P.O. Box 117, Ruby, AK 99768 | (907) 468-4400 | (907) 468-4500 | elaine.wright@tananachiefs.org
Ruby, Native Village of |  | Tanana Chiefs Conference, Legal Department, 122 First Avenue, Suite 600, Fairbanks, AK 99701 | (907) 452-8251 Ext. 3178 | (907) 459-3953
Russian Mission (see Iqurmuit Native Village)
Saint George (see St. George)
Saint Michael (see St. Michael)
Salamatoff, Native Village of | Katie Watkins, Director of Human and Community Services, Jaylene Petersom-Nyren, Excutive Director | Kenaitze Indian Tribe, P.O. Box 988, Kenai, AK 99611 | (907) 335-7610; (907) 335-7600 | (907) 202-8359 | kwatkins@kenaitze.org
Sand Point (see Qagan Tayaguyngin Tribe of Sand Point Village)
Savoonga, Native Village of | Ruthie Okoomealingok, Tribal Family Coordinator | P.O. Box 120, Savoonga, AK 99769 | (907) 984-6758 | (907) 984-6759 | tfc.sva@kawerak.org
Savoonga, Native Village of | Traci McGarry, Program Director | Kawerak, Inc. Children & Family Services, P.O. Box 948, Nome, AK 99762 | (907) 443-4376 | (907) 443-4474 | cfsdir@kawerak.org
Saxman (see Organized Village of Saxman)
Scammon Bay, Native Village of | Michelle Akerealrea, ICWA Worker | P.O. Box 110, Scammon Bay, AK 99662 | (907) 558-5078 |  | makerelrea@avcp.org
Scammon Bay, Native Village of | Valerie Andrew, ICWA Director | Association of Village Council Presidents, P.O. Box 219, Bethel, AK 99559 | (907) 543-7461 | (907) 543-5759 | VAndrew@avcp.com
Selawik, Native Village of | Trina Walton, ICWA Coordinator | P.O. Box 59, Selawik, AK 99770 | (907) 484-2165 Ext. 12 | (907) 424-2001 | trinawalton1@gmail.com
Selawik, Native Village of | Jackie Hill, Tribal Director Assistance Program | Maniilaq Association, Family Services, P.O. Box 256, Kotzebue, AK 99752 | (907) 442-7870 | (907) 442-7833 | Jackie.hill@maniilaq.org
Seldovia Village Tribe | Shannon Custer, ICWA Representative | P.O. Drawer L, Seldovia, AK 99663 | (907) 435-3252 | (907) 234-7865 | scuster@svt.org
Shageluk Native Village | Alana Notti, Tribal Family Youth Specialist | P.O. Box 109, Shageluk, AK 99665 | (907) 473-8229 | (907) 473-8275 | Alana.notti@tananachiefs.org
Shageluk Native Village |  | Tanana Chiefs Conference, Legal Department, 122 First Avenue, Suite 600, Fairbanks, AK 99701 | (907) 452-8251 Ext. 3178 | (907) 459-3953
Shaktoolik, Native Village of | Katelynn Evan, Tribal Family Coordinator | P.O. Box 100, Shaktoolik, AK 99771 | (907) 955-2444 | (907) 955-2443 | tfc.skk@kawerak.org
Shaktoolik, Native Village of | Traci McGarry, Program Director | Kawerak, Inc. Children & Family Services, P.O. Box 948, Nome, AK 99762 | (907) 443-4376 | (907) 443-4474 | cfsdir@kawerak.org
Sheldon's Point (see Nunam Iqua)
Shishmaref, Native Village of | Karla Nayokpuk, Tribal Family Coordinator | P.O. Box 72110, Shishmaref, AK 99772 | (907) 649-3078 | (907) 649-2278 | knayokpuk@kawerak.org
Shishmaref, Native Village of | Traci McGarry, Program Director | Kawerak, Inc. Children & Family Services, P.O. Box 948, Nome, AK 99762 | (907) 443-4376 | (907) 443-4474 | cfsdir@kawerak.org
Shungnak, Native Village of | Amanda Johnson, ICWA Coordinator | P.O. Box 73064, Shungnak, AK 99773 | (907) 437-2163 | (907) 437-2183 | icwa@issingnak.org
Shungnak, Native Village of | Jackie Hill, Tribal Director Assistance Program | Maniilaq Association, Family Services, P.O. Box 256, Kotzebue, AK 99752 | (907) 442-7870 | (907) 442-7833 | Jackie.hill@maniilaq.org
Sitka Tribe of Alaska | Krista Perala, Lead ICWA Case Worker | 456 Katlian Street, Sitka, AK 99835 | (907) 747-3759 | (907) 747-7643 | krista.perala@sitkatribe-nsn.gov
Skagway Village | Marla Belisle, ICWA Worker | P.O. Box 1157, Skagway, AK 99840 | (907) 983-4068 | (907) 983-3068 | marla@skagwaytraditional.org
Sleetmute, Village of | Cheryl Mellick, ICWA Worker | P.O. Box 109, Sleetmute, AK 99668 | (907) 449-4263 | (907) 449-4265 | SLQICWA@hughes.net
Solomon, Village of | Elizabeth Johnson, Tribal Coordinator | P.O. Box 2053, Nome, AK 99762 | (907) 443-4985 | (907) 443-5189 | tc.sol@kawerak.org
South Naknek Village | Lorraine Zimin, ICWA Coordinator | 2521 E. Mountain Village Dr. B. 388, Wasilla, AK 99654 | (907) 631-3648 | (907) 631-0949
South Naknek Village | Crystal Nixon-Luckhurst, Children's Services Division Manager | Bristol Bay Native Association, Children's Services Division Manager, P.O. Box 310, 1500 Kanakanak Road, Dillingham, AK 99576 | (907) 842-4139 | (907) 842-4106 | cnixon@bbna.com
St. Mary's (see Algaaciq)
St. Mary's Igloo (see Teller)
St. George, Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
St. Michael, Native Village of | Shirley Martin, Tribal Family Coordinator | P.O. Box 59050, St. Michael, AK 99659 | (907) 923-2546 | (907) 923-2474 | tfc.smk@kawerak.org
St. Michael, Native Village of | Traci McGarry, Program Director | Kawerak, Inc. Children & Family Services, P.O. Box 948, Nome, AK 99762 | (907) 443-4376 | (907) 443-4474 | cfsdir@kawerak.org
St. Paul, Pribilof Islands Aleut Community of | Charlene Naulty, M.S | 4720 Business Park Blvd, Suite G-40, Anchorage, AK 99503 | (907) 546-3200; (907) 546-8308 | (907) 546-3254 | cjnaluty@aleut.com
St. Paul, Pribilof Islands Aleut Community of | Dylan Conduzzi, Director | P.O. Box 86, St. Paul Island, AK 99660 | (907) 546-3200; (907) 546-8308 | (907) 546-3254 | dcconduzzi@aleut.com
Stebbins Community Association | Jennil Lockwood, Tribal Family Coordinator | P.O. Box 7100, Stebbins, AK 99762 | (907) 934-2334 | (907) 934-2675 | tfc.wbb@kawerak.org
Stebbins Community Association | Traci McGarry, Program Director | Kawerak, Inc. Children & Family Services, P.O. Box 948, Nome, AK 99762 | (907) 443-4376 | (907) 443-4474 | cfsdir@kawerak.org
Stevens, Native Village of | Cheryl Mayo, ICWA Worker; Jessica Kozevnikoff, Tribal Administrator | P.O. Box 71372, Stevens Village, AK 99774 | (907) 478-7228 | (907) 478-7229 | svs.ira.council@gmail.com
Stony River, Native Village of | Mary Willis, Tribal Administrator | P.O. Box SRV, Stony River, AK 99557 | (907) 537-3258
Stony River, Native Village of | Valerie Andrew, ICWA Director | Association of Village Council Presidents, P.O. Box 219, Bethel, AK 99559 | (907) 543-7461 | (907) 543-5759 | VAndrew@avcp.com
Sun'aq Tribe of Kodiak | Linda Resoff, Social Services Director | 312 West Marine Way, Kodiak, AK 99615 | (907) 486-4449 | (907) 486-3361 | socialservices@sunaq.org
Takotna Village | Tribal Family Youth Specialist | P.O. Box 7529, Takotna, AK 99675 | (907) 298-2212 | (907) 298-2314
Takotna Village |  | Tanana Chiefs Conference, Legal Department, 122 First Avenue, Suite 600, Fairbanks, AK 99701 | (907) 452-8251 Ext. 3178 | (907) 459-3953
Tanacross, Native Village of | Colleen Denny, Tribal Family Youth Specialist | P.O. Box 76009, Tanacross, AK 99776 | (907) 883-5024 | (907) 883-4497 | colleen.denny@tananachiefs.org
Tanacross, Native Village of |  | Tanana Chiefs Conference, Legal Department, 122 First Avenue, Suite 600, Fairbanks, AK 99701 | (907) 452-8251 Ext. 3178 | (907) 459-3953
Tanana, Native Village of | Donna May Folger, Tribal Family Youth Specialist | Box 77130, Tanana, AK 99777 | (907) 366-7160 | (907) 366-7195 | tananatyfs@gmail.com
Tanana, Native Village of |  | Tanana Chiefs Conference, Legal Department, 122 First Avenue, Suite 600, Fairbanks, AK 99701 | (907) 452-8251 Ext. 3178 | (907) 459-3953
Tangirnaq (Lesnoi Village aka Woody Island) | Robert Stauffer | 194 Alimaq Dr., Kodiak, AK 99615 | (907) 486-9806
Tatitlek, Native Village of | Victoria Vlasoff, Tribal Administrator | P.O. Box 171, Tatitlek, AK 99677 | (907) 325-2311 | (907) 325-2289
Tazlina, Native Village of | Marce Simeon, ICWA Coordinator | P.O. Box 87, Glennallen, AK 99588 | (907) 822-4375 | (907) 822-5865 | icwa.tazlina@cvinternet.net
Telida Village | Josephine Royal, Tribal Administrator/Tribal Family Youth Specialist | 3131 N. Lazy Eight Ct., Wasilla, AK 99654 | (907) 864-0629 | (907) 376-3540
Telida Village |  | Tanana Chiefs Conference, Legal Department, 122 First Avenue, Suite 600, Fairbanks, AK 99701 | (907) 452-8251 Ext. 3178 | (907) 459-3953
Teller, Native Village of | Dolly Kugzruk, Tribal Family Coordinator | P.O. Box 629, Teller, AK 99778 | (907) 642-2185 | (907) 642-3000 | drugzruk@kawerak.org
Teller, Native Village of | Traci McGarry, Program Director | Kawerak, Inc. Children & Family Services, P.O. Box 948, Nome, AK 99762 | (907) 443-4376 | (907) 443-4474 | cfsdir@kawerak.org
Tetlin, Native Village of | Nettie Warbelow, Tribal Family Youth Specialist | P.O. Box 797, Tok, AK 99780 | (907) 378-3608 | (907) 883-1269 | nwarbelow@acsalaska.net
Tetlin, Native Village of |  | Tanana Chiefs Conference, Legal Department, 122 First Avenue, Suite 600, Fairbanks, AK 99701 | (907) 452-8251 Ext. 3178 | (907) 459-3953
Tlingit & Haida Indian Tribes of Alaska (see Central Council Tlingit and Haida Tribes)
Togiak, Traditional Village of | Deanna Snyder, Clerk; Jimmy Coopchiak, President | ICWA, P.O. Box 310, Togiak, AK 99678 | (907) 493-5003 | (907) 493-5005 | togiakicwa@bbna.com
Togiak, Traditional Village of | Crystal Nixon-Luckhurst, Children's Services Division Manager | Bristol Bay Native Association, Children's Services Division Manager, P.O. Box 310, 1500 Kanakanak Road, Dillingham, AK 99576 | (907) 842-4139 | (907) 842-4106 | cnixon@bbna.com
Toksook Bay (see Nunakauyarmiut Tribe)
Tuluksak Native Community | Laura Kashatok, ICWA Worker | P.O. Box 95, Tuluksak, AK 99679 | (907) 695-6902 |  | cofft@avcp.org
Tuluksak Native Community | Valerie Andrew, ICWA Director | Association of Village Council Presidents, P.O. Box 219, Bethel, AK 99559 | (907) 543-7461 | (907) 543-5759 | VAndrew@avcp.com
Tuntutuliak, Native Village of | Samantha White, ICWA Worker | P.O. Box 8086, Tuntutuliak, AK 99680 | (907) 256-2311 |  | swhite1@avcp.org
Tuntutuliak, Native Village of | Valerie Andrew, ICWA Director | Association of Village Council Presidents, P.O. Box 219, Bethel, AK 99559 | (907) 543-7461 | (907) 543-5759 | VAndrew@avcp.com
Tununak, Native Village of | James James, Tribal Administrator | P.O. Box 77, Tununak, AK 99681 | (907) 652-6220
Tununak, Native Village of | Valerie Andrew, ICWA Director | Association of Village Council Presidents, P.O. Box 219, Bethel, AK 99559 | (907) 543-7461 | (907) 543-5759 | VAndrew@avcp.com
Twin Hills Village Council | Beverly Cano, Administrator | P.O. Box TWA, Twin Hills, AK 99576 | (907) 525-4821 | (907) 525-4822 | twinhillsadmin@bbna.com
Twin Hills Village Council | Crystal Nixon-Luckhurst, Children's Services Division Manager | Bristol Bay Native Association, Children's Services Division Manager, P.O. Box 310, 1500 Kanakanak Road, Dillingham, AK 99576 | (907) 842-4139 | (907) 842-4106 | cnixon@bbna.com
Tyonek, Native Village of | Arthur Standifer, ICWA Worker | P.O. Box 82009, Tyonek, AK 99682-0009 | (907) 583-2209 | (907) 583-2219 | tyonekicwa@gmail.com
Ugashik Village | Steven Alvarez, Tribal Administrator | 2525 Blueberry Road, Suite 205, Anchorage, AK 99503 | (907) 338-7611 | (907) 338-7659 | icwa@ugashikvillage.com
Umkumiut Native Village | Tribal Administrator | P.O. Box 90062, Nightmute, AK 99690 | (907) 647-6145
Umkumiut Native Village | Valerie Andrew, ICWA Director | Association of Village Council Presidents, P.O. Box 219, Bethel, AK 99559 | (907) 543-7461 | (907) 543-5759 | VAndrew@avcp.com
Unalakleet, Native Village of | Aurora Mosely, ICWA Caseworker | P.O. Box 270, Unalakleet, AK 99684 | (907) 624-3526 | (907) 624-5104 | tfc.unk@kawerak.org
Unalakleet, Native Village of | Traci McGarry, Program Director | Kawerak, Inc. Children & Family Services, P.O. Box 948, Nome, AK 99762 | (907) 443-4376 | (907) 443-4474 | cfsdir@kawerak.org
Unalaska (see Qawalangin Tribe of Unalaska)
Unga Native Village of | Amanda McAdoo, ICWA Coordinator; Ozzy E. Escarate, Director, Department of Family & Community Development | Aleutian/Pribilof Islands Association, 1131 East International Airport Road, Anchorage, AK 99518-1408 | (907) 276-2700 | (907) 222-9735 | icwa@apiai.org
Upper Kalskag Native Village (see Kalskag)
Venetie, Native Village of | Larry Williams Sr., ICWA Worker | P.O. Box 81080, Venetie, AK 99781 | (907) 849-8212; (907) 849-8610 | (907) 849-8216
Venetie, Native Village of |  | Tanana Chiefs Conference, Legal Department, 122 First Avenue, Suite 600, Fairbanks, AK 99701 | (907) 452-8251 Ext. 3178 | (907) 459-3953
Wainwright, Native Village of |  | P.O. Box 143, 1212 Airport Road, Wainwright, AK, 99782 | (907) 763-2575 | (907) 763-2576
Wainwright, Native Village of | Joshua Stein, ICWA Program Manager | Arctic Slope Native Association, P.O. Box 29, Barrow, AK 99723 | (907) 852-9374 | (907) 852-2763 | joshua.stein@arcticslope.org
Wales, Native Village of | Rachel Ozenna, Tribal Family Coordinator | P.O. Box 549, Wales, AK 99783 | (907) 644-2185 | (907) 644-3983 | tfc.waa@kawerak.org
Wales, Native Village of | Traci McGarry, Program Director | Kawerak, Inc. Children & Family Services, P.O. Box 948, Nome, AK 99762 | (907) 443-4376 | (907) 443-4474 | cfsdir@kawerak.org
White Mountain, Native Village of | Carol Smith, Tribal Family Coordinator | P.O. Box 84090, White Mountain, AK 99784 | (907) 638-2008 | (907) 638-2009 | tfc.wmo@kawerak.org
White Mountain, Native Village of | Traci McGarry, Program Director | Kawerak, Inc. Children & Family Services, P.O. Box 948, Nome, AK 99762 | (907) 443-4376 | (907) 443-4474 | cfsdir@kawerak.org
Woody Island (see Lesnoi Village)
Wrangell Cooperative Association | Cynthia Mills, Family Caseworker II, | P.O. Box 1198, Wrangell, AK 99929 | (907) 755-2326 | (907) 855-0032
Yakutat Tlingit Tribe | Penny James, ICWA Program | P.O. Box 378, Yakutat, AK 99689 | (907) 784-3368 | (907) 784-3664 | pjames@ytttribe.org
Yupiit of Andreafski | Danielle Greene, ICWA Director | P.O. Box 88, St. Mary's, AK 99658 | (907) 438-2572 | (907) 438-2573
Yupiit of Andreafski | Valerie Andrew, ICWA Director | Association of Village Council Presidents, P.O. Box 219, Bethel, AK 99559 | (907) 543-7461 | (907) 543-5759 | VAndrew@avcp.com

2. Eastern Region

Eastern Regional Director, Bureau of Indian Affairs, 545 Marriott Drive, Suite 700, Nashville, Tennessee 37214; Phone: (615) 564-6700; Fax: (615) 564-6701.

Tribe | ICWA POC | Mailing address | Phone number | Fax number | Email address
Aroostook Band of Micmac Indians | Luke Joseph, ICWA Director | 7 Northern Road, Presque Isle, ME 04769 | (207) 764-1972 | (207) 764-7667 | ljoseph@micmac-nsn.gov
Catawba Indian Nation of South Carolina | Linda Love, MSW, LMSW, Social Services Director | Catawba Indian Nation, 996 Avenue of Nations, Rock Hill, SC 29730 | 803-412-3521 | (803) 325-1242 | Linda.love@catawbaindian.net
Cayuga Nation of New York | Sharon Leroy, Executor | P.O. Box 803, Seneca Falls, NY 13148 | (315) 568-0750 | (315) 568-0752 | sharon.leroy@nsncayuganation-nsn.gov
Coushatta Tribe of Louisiana | Milton Hebert, Social Service Director | P.O. Box 967, Elton, LA 70532 | (337) 584-1433 | (337) 584-1474 | mhebert@coushattatribela.org
Eastern Band of Cherokee Indians | Jenny Bean, Family Safety Supervisor | P.O. Box 666, Cherokee, NC 28719 | (828) 359-6149 | (828) 359-0216 | jennbean@nc-cherokee.com
Houlton Band of Maliseet Indians | Lori Jewell, LMSW/cc, ICWA Director | 13-2 Clover Court, Houlton, ME 04730 | (207) 532-7260; (207) 538-2266 | (207) 532-7287 | ljewell@maliseets.com
Jena Band of Choctaw Indians | Mona Maxwell, Social Services Director | P.O. Box 14, Jena, LA 71342 | (318) 992-0136; Cell: (318) 419-8432 | (318) 992-4162 | mmaxwell@jenachoctaw.org
Mashantucket Pequot Tribal Nation | Valerie Burgess, Director Child Protective Services | 102 Muhshee Mahchaq, P.O. Box 3313, Mashantucket, CT 06338 | (860) 396-2007 | (860) 396-2144 | vburgess@mptn-nsn.gov
Miccosukee Tribe of Indians of Florida | Jennifer Prieto, Director of Social Services | P.O. Box 440021, Tumiami Station, Miami, FL 33144 | (305) 223-8380 Ext. 2267 | (305) 894-5232 | jenniferp@miccosukeetribe.com
Mississippi Band of Choctaw Indians | Natasha Wesley, Legal Secretary | P.O. Box 6258, Choctaw, MS 39350 | (601) 656-4507 | (601) 656-1357 | Natasha.wesley@choctaw.org
Mohegan Indian Tribe | Irene Miller, APRN, Director, Family Services | 13 Crow Hill Road, Uncasville, CT 06382 | (860) 862-6236 | (860) 862-6324 | imiller@,moheganmail.com
Narragansett Indian Tribe | Wenonah Harris, Director, Tribal Child Advocate | 4375B South County Trail or P.O. Box 268, Charlestown, RI 02813 | (401) 824-9034; (401) 364-1100 Ext. 233; Ext. 203 | (401) 364-1104 | Wenonah@nithpo.com
Oneida Indian Nation | Kim Jacobs, Nation Clerk | Box 1 Vernon, NY 13476 | (315) 829-8337 | (315) 366-9231 | kjacobs@oneida-nation.org
Onondaga Nation | Laverne Lyons | 104 W. Conklin Ave, Nedrow, NY 13120 | (315) 469-9196 | (315) 469-3250 | lglyons@syr.edu
Passamaquoddy Tribe of Maine-Indian Township Reservation | Tene Downing, Director of Child Welfare | P.O. Box 301, Princeton, ME 04668 | (207) 796-6133 | (207) 796-5606 | tfdowning5@gmail.com
Passamaquoddy Tribe-Pleasant Point | Frances LaCoute, Social Services Director | P.O. Box 343, Perry, ME 04667 | (207) 853-2600 Ext. 211 | (207) 853-9618 | flacoute@wabanaki.com
Penobscot Nation | Brooke Loring, Director of Social Services | 12 Wabanaki Way, Indian Island, ME 04468 | (207) 817-3461 | (207) 817-3166 | Brooke.loring@panobscotnation.org
Poarch Band of Creek Indians | Michealine Deese, Child and Family Welfare Coordinator | 5811 Jack Springs Rd., Atmore, AL 36502 | (251) 368-9136 Ext. 2603 | (251) 368-0828 | mdeese@pci-nsn.gov
Sac & Fox Tribe of the Mississippi in Iowa—Meskwaki | Mylene Wanatee, Meskwaki Family Services Director; Pam Gegener, ICWA Coordinator | P.O. Box 245, Tama, IA 52339 | (641) 484-4444 | (641) 484-2103 | recruiter.mfs@meskwaki-nsn.gov
Saint Regis Mohawk Tribe | Jean Square, Interim—ICWA Program Manager; Tsiawente Jackson, Administrative Assistant | 412 State Route 37, Akwesasne, NY 13655 | (518) 358-2360 | (518) 358-9107 | icwa@srmt-nsn.gov
Seminole Tribe of Florida | Shamika Patton, Tribal Family & Child Advocacy Compliance & Quality Assurance Manager | 3006 Josie Billie Avenue, Hollywood, FL 33024 | (954) 965-1314 | (954) 965-1304 | shamikabeasley@semtribe.com
Seneca Nation of Indians | Tracy Pacini, Child and Family Services Program Coordinator | P.O. Box 500, Salamanca, NY 14779 | (716) 945-5894 | (716) 945-7881 | tracy.pacini@senecahealth.org
Tonawanda Band of Seneca | Darwin Hill, Chief | Council of Chiefs, 7027 Meadville Road, Basom, NY 14013 | (716) 542-4244 | (716) 542-4008 | Tonseneca@aol.com
Tunica-Biloxi Indian Tribe of Louisiana | Evelyn Cass, Registered Social Worker | P.O. Box 493, Marksville, LA 71351 | (318) 240-6444 | (318) 500-3011 | ecass@tunica.org
Tuscarora Nation of New York | Chief Leo Henry, Clerk | 206 Mount Hope Road, Lewistown, NY 14092 | (716) 601-4737 | 888-800-9787 |
Wampanoag Tribe of Gay Head (Aquinnah) | Bonnie Chalifoux, Director Human Services | 20 Black Brook Road, Aquinnah, MA 02539 | (508) 645-9265 Ext 133 | (508) 645-2755 | bonnie@wampanoagtribe.net

3. Eastern Oklahoma Region

Eastern Oklahoma Regional Director, Bureau of Indian Affairs, P.O. Box 8002, Muskogee, Oklahoma 74402-8002; Phone: (918) 781-4600; Fax: (918) 781-4604.

Tribe | ICWA POC | Mailing address | Phone number | Fax number | Email address
Alabama Quassarte Tribal Town | Malinda Noon, ICWA Director | P.O. Box 187, Wetumka, OK 74883 | (405) 452-3659 | (405) 452-3435 | mnoon@alabama-quassarte.org
Cherokee Nation | Nikki Baker-Linmore, Director Division of Children Youth and Family Services | P.O. Box 948, Tahlequah, OK 74465 | (918) 458-6900 | (918) 458-6146 | nikki-baker@cherokee.org
Chickasaw Nation | Michelle Price, Interim Director Child Welfare Serivces | 1401 Hoppe Blvd., Ada, OK 74820 | (580) 272-5550 | (580) 272-5553 | michelle.price@chickasaw.net
Choctaw Nation of Oklahoma | Melisssa Middleton, ICW Director | Children & Family Services, P.O. Box 1210, Durant, OK 74702 | (580) 924-8280 Ext 2550 | (580) 920-3197 | mmiddleton@choctawnation.com
Eastern Shawnee Tribe of Oklahoma | Tamara Gibson, Child and Family Services Coordinator | 10100 S. Bluejacket Road, Suite 3, Wyandotte, OK 74370 | (918) 666-7710 | (888) 971-3908 | tgibson@estoo.net
Kialegee Tribal Town | Angie Beaver, ICW Director | P.O. Box 332, Wetumka, OK 74883 | (405) 452-5388 | (405) 452-3413 | angie.beaver@kialegeetribe.net
Miami Tribe of Oklahoma | Janet Grant, Social Services Director | P.O. Box 1326, Miami, OK 74355 | (918) 541-1381 | (918) 540-2814 | Jgrant@miamination.com
Modoc Tribe of Oklahoma | Regina Shelton, Division of Children and Family Services | 625 6th SE, Miami, OK 74354 | (918) 542-7890 | (918) 542-7878 | modoc.ccdf@yahoo.com
Muscogee (Creek) Nation | Kimee Wind-Hummingbird, Director of Child and Family Services | P.O. Box 580, Okmulgee, OK 74447 | (918) 732-7859 | (918) 732-7855 | Kwind-hummingbird@mcn-nsn.gov
Osage Tribe | Leah Bighorse, Intake-Supervisor | 255 Senior Drive, Pawhuska, OK 74056 | (918) 287-5341 | (918) 287-5231 | lbighorse@osagenation-nsn.gov
Ottawa Tribe of Oklahoma | Roy A. Ross, Social Services and CPS Director | P.O. Box 110, Miami, OK 74355 | (918) 540-1536 | (918) 542-3214 | rross.oto@gmail.com
Peoria Tribe of Indians of Oklahoma | Doug Journeycake, Indian Child Welfare Director | P.O. Box 1527, Miami, OK 74355 | (918) 540-2535 | (918) 540-4370 | djourneycake@peoriatribe.com
Quapaw Tribe of Oklahoma | Mandy Dement, Family Services, ICW Director | P.O. Box 765, Quapaw, OK 74363 | (918) 238-3152 | (918) 674-2581 | mdement@quapawtribe.com
Seminole Nation of Oklahoma | Tracy Haney, Director, Indian Child Welfare | P.O. Box 1498, Wewoka, OK 74884 | (405) 257-9038 | (405) 257-9036 | Haney.t@sno-nsn.gov
Seneca-Cayuga Nation of Oklahoma | Mark Westfall, ICW Director | Indian Child Program, 23701 South 655 Road, Grove, OK 74344 | (918) 516-3508 | (918) 516-0248 | mwestfall@sctribe.com
Thlopthlocco Tribal Town | Shane Berry, Social Service Manager | P.O. Box 188, Okemah, OK 74859 | (918) 560-6121 | (918) 623-3023 | Sberry@tttown.org
United Keetoowah Band of Cherokee Indians in Oklahoma | Raven Owl, ICW Advocate | P.O. Box 746, Tahlequah, OK 74465 | (918) 772-4300 | (918) 431-0152 | rowl@ukb-nsn.gov
Wyandotte Nation | Tara Gragg, Social Worker | 64700 E. Hwy 60, Wyandotte, OK 74370 | (918) 678-6355 | (918) 678-3087 | tgragg@wyandotte-nation.org
Wyandotte Tribe of Oklahoma | Tara Gragg, Social Worker | 64700 E. Hwy 60, Wyandotte, OK 74370 | (918) 678-6355 | (918) 678-3087 | tgragg@wyandotte-nation.org

4. Great Plains Region

Great Plains Regional Director, Bureau of Indian Affairs, 115 4th Avenue SE., Aberdeen, South Dakota 57401; Phone: (605) 226-7343; Fax: (605) 226-7446.

Tribe | ICWA POC | Mailing address | Phone number | Fax number | Email address
Cheyenne River Sioux Tribe | Diane Garreau, Indian Child Welfare Act Program Director | PO Box 590, Eagle Butte, SD 57625 | (605) 964-6460 | (605) 964-6463 | Dgarreau@hotmail.com
Crow Creek River Sioux Tribe | LeeAnn Piskule, ICWA Director | 35505 239th St., Kimball, SD 57355 | (605) 245-2581 or (605) 680-2475 | (605) 245-2343 | ccst.icwa@hotmail.com
Flandreau Santee Sioux Tribe | Jessica Morson, ICWA Administrator | Flandreau Santee Sioux Tribal Social Services, P.O. Box 283, Flandreau, SD 57028 | (605) 997-5055 | (605) 997-3694 | jessica.morrison@fsst.org
Lower Brule Sioux Tribe | Rose R. McCauley and Jera Brouse-Koster, Designated Tribal Agent-ICWA | 187 Oyate Circle, Lower Brule, SD 57548 | (605) 473-8000 Ext. 48163 | (605) 473-8051 | J_lou_koster@yahoo.com
Oglala Sioux Tribe | Shirley Blackstone, ICWA Supervisor | Oglala Sioux Tribe—ONTRAC, P.O. Box 2080, Pine Ridge, SD 57770 | (605) 867-5752 | (605) 867-1893 | sblackstone@oglala.org
Omaha Tribe of Nebraska | Ansley Griffin, ICWA Specialist | Omaha Tribe of Nebraska, P.O. Box 500, Macy NE 68039 | (402) 837-5331 Ext. 301 | (402) 837-5362 | ansley.griffin@nebraska.gov
Ponca Tribe of Nebraska | Lynn Schultz, ICWA Specialist | Ponca Tribe of Nebraska Social Services, 1800 Syracuse Avenue Norfolk, NE 68701 | (402) 371-8834 | (402) 371-7564 | lschultz@poncatribe-ne.org
Rosebud Sioux Tribe | Shirley J. Bad Wound, ICWA Specialist | Rosebud Sioux Tribe ICWA Program, P.O. Box 609, Mission, SD 57555 | (605) 856-5270 | (605) 856-5268 | rsticwa9@gwtc.net
Santee Sioux Nation | Karen RedOwl, ICWA Specialist | Dakota Tiwahe Social Services Program, Route 2, Box 5191, Niobrara, NE 68760 | (402) 857-2342 | (402) 857-2361 | karen.redowl@nebraska.gov
Sisseton-Wahpeton Sioux Tribe | Evelyn Pilcher, ICWA Director | PO Box 509 Agency Village, SD 57262 | (605) 698-3992 | (605) 698-3999 | evelyn.pilcher@state.sd.us
Spirit Lake Sioux Tribe | Marie Martin, ICWA Coordinator | Spirit Lake Tribal Social Services, P.O. Box 356, Fort Totten, ND 58335 | (701) 766-4404 | (701) 766-4722 | slticwadir@spiritlakenation.com
Standing Rock Sioux Tribe | Raquel Franklin, ICWA Director | Standing Rock Sioux Tribe ICWA, P.O. Box 770, Fort Yates, ND 58538 | (701) 854-3095 | (701) 854-5575 | rfranklin@standingrock.org
Three Affiliated Tribes (Mandan, Arikara & Hidatsa) | Vincent Roehr, ICWA Specialist | 404 Frontage Drive, New Town, ND 58763 | (701) 627-8168 | (701) 627-4225 | vroehn@mhnation@.com
Turtle Mountain Band of Chippewa Indians | Marilyn Poitra, ICWA Coordinator | Child Welfare and Family Services, P.O. Box 900 Belcourt, ND 58316 | (701) 477-5688 | (701) 477-5797 | marilynp@tmcwfs.net
Winnebago Tribe of Nebraska | Elexa Mollet, ICWA Specialist | ICWA Program, P.O. Box 723, Winnebago, NE 68071 | (402) 878-2379 Ext. 115 | (402) 878-2228 | candace.payer@winnebagotribe.com
Yankton Sioux Tribe of South Dakota | Melissa Sanchez-Chrans, ICWA Director | Yankton Sioux Tribe ICWA Department, P.O. Box 1153, Wagner, SD 57361 | (605) 384-5712 | (605) 384-5014 | yst_icwa@outlook.com

5. Midwest Region

Midwest Regional Director, Bureau of Indian Affairs, 5600 West American Blvd., Suite 500, Norman Pointe II Building, Bloomington, Minnesota 55437; Phone: (612) 725-4500; Fax: (612) 713-4401.

Tribe | ICWA POC | Mailing address | Phone number | Fax number | Email address
Bad River Band of the Lake Superior Tribe of Chippewa Indians | Gina Secord, Abinoojiyag Resource Center Program Manager | P.O. Box 55, Odanah, WI 54861 | (715) 682-7135 Ext: 3 |  | ARCMgr@badriver-nsn.gov
Bay Mills Indian Community | Phyllis Kinney, Tribal Court Administrator | 12140 W. Lakeshore Dr., Brimley, MI 49715 | (906) 248-3241 | (906) 248-5817 | phyllisk@baymills.org
Bois Forte Reservation Business Committee | Angela Wright, Indian Child Welfare Supervisor | 13071 Nett Lake Road Suite A, Nett Lake, MN 55771 | (218) 757-3295 | (218) 757-3335 | amwright@boisforte.nsn.gov
Fond du Lac Reservation Business Committee | Chairperson, Fond du Lac Reservation Business Committee | 1720 Big Lake Road, Cloquet, MN 55720 | (218) 879-4593 | (218) 879-4146 | LisaPollack@fdlrez.com
Forest County Potawatomi Community of Wisconsin | Abbey Lukowski, Family Services Division Director | 5415 Everybody's Road, Crandon, WI 54520 | (715) 478-4812 | (715) 478-7442 | Abbey.lukowski@fcpotawatomi-nsn.gov
Grand Portage Reservation Business Center | Roger Linehan, Human Service Director | P.O. Box 428, Grand Portage, MN 55605 | (218) 475-2453 | (218) 475-2455 | rlinehan@grandportage.com
Grand Traverse Band of Ottawa and Chippewa Indians | Helen Cook, Anishinaabek Family Services Supervisor | 2605 N. West Bayshore Drive, Peshawbestown, MI 49682-9275 | (231) 534-7681 | (231) 534-7706 | helen.cook@gtbindians.com
Hannahville Indian Community of Michigan | Jessica Brock, ICWA Worker | N15019 Hannahville B1 Road, Wilson, MI 49896 | (906) 723-2514 | (906) 466-7397 | Jessica.brock@hichealth.org
Ho-Chunk Nation | ICWA Supervisor | P.O. Box 40, Black River Falls, WI 54615 | (715) 284-2622 | (715) 284-0097 | ICW@ho-chunk.com
Keweenaw Bay Indian Community of the L'Anse Reservation of Michigan | Judith Heath, Director Social Services | 16429 Bear Town Road, Baraga, MI 49908 | (906) 353-4201 | (906) 353-8171 | judy@kbic-nsn.gov
Lac Courte Oreilles Band of Lake Superior Chippewa Indian of Wisconsin | LuAnn Kolumbus, Tribal Social Services Director | 13394 W. Trepania Road, Hayward, WI 54843 | (715) 634-8934 ext. 7435 | (715) 634-2981 | lcoicw@nsn.gov
Lac du Flambeau Band of Lake Superior Chippewa Indians | Kristin Allen, ICW Director | P.O. Box 216, Lac du Flambeau, WI 54538 | (715) 588-4275 | (715) 588-3855 | ldficw@ldftribe.com
Lac Vieux Desert Band of Lake Superior Chippewa Indians of Michigan | Dee Dee McGeshick, Social Services Director and Marisa Vanzile, ICW Caseworker | P.O. Box 249, Watersmeet, MI 49969 | (906) 358-4940 | (906) 358-4900 | dee.mcgeshick@lvdtribal.com
Leech Lake Band of Ojibwe | Laurie Chase, Child Welfare Director | 190 Sailstar Drive NW, Cass Lake, MN 56633; P.O. Box 967, Cass Lake, MN 56633 | (218) 335-8270 | (218) 335-3768 | laurie.chase@llojibwe.com
Little River Band of Ottawa Indians, Inc | William Gregory, Tribal Prosecutor | 3031 Domres Road, Manistee, MI 49660 | (213) 398-2242 or Cell: (616) 490-3300 | (231) 398-3404 | bgregory@lrboi.com
Little Traverse Band of Odawa Indians | Denneen Smith, Human Services Director | 7500 Odawa Circle, Harbor Springs, MI 49740 | (231) 242-1620 | (213) 242-1635 | dmsmith@ltbbodawa-nsn.gov
Lower Sioux Indian Community of Minnesota | Reanna Jacobs, ICWA Advocate and Darin Prescott, Director | 39568 Reservation Highway 1, Morton, MN 56270 | (507) 697-9108 | (507) 697-9111 | reanna.jacobs@lowersioux.com
Match-E-Be-Nash-She-Wish Band of Potawatomi Indians of Michigan (Gun Lake Tribe) | Sarah Jane Watrous, LMSW, Human Services Coordinator | 2880 Mission Dr., Shelbyville, MI 49344 | (616) 681-0360 Ext. 1108 | (269) 397-1763 | Sarahjane.Watrous@hhs.glt-nsn.gov
Menominee Indian Tribe of Wisconsin | Mary Husby, Director of Social Services and Carol Corn, Acting Director of Social Services | P.O. Box 520, Keshena, WI 54135 | (715) 799-5161 | (715) 799-6061 | mhusby@mitw.org; ccorn@mitw.org
Mille Lacs Band of Ojibwe | Mishelle Ballinger, Administrative Case Aid—Family Services | 17230 Noopiming Drive, Onamia, MN 56359 | (320) 532-7776 | (320) 532-7583 | mishelle.ballinger@hhs.millelacsband-nsn.gov
Nottawaseppi Huron Band of the Potawatomi | Meg Fairchild, LMSW, CAAC, Clinical Social Worker | 1474 Mno Bmadzewen Way, Fulton, MI 49052 | (269) 729-4422 | (269) 729-4460 | socialwpc@nhbp.org
Omaha Tribe of Nebraska | Raquel Morris, Director | Omaha Tribe of Nebraska, Child Protection Services, P.O. Box 444, Macy, NE 68039 | (402) 837-5287 | (402) 837-5275 | raquel.morris@omahatribe.com
Oneida Tribe of Indians of Wisconsin | Heather Lee, ICWA Supervisor | Attn: Children and Family Services, P.O. Box 365, Oneida, WI 54155 | (920) 490-3724 | (920) 490-3820 | icw@oneidanation.org
Pokagon Band of Potawatomi | Mark Pompey, Social Services Director | 58620 Sink Road, Dowagiac, MI 49047 | (269) 782-8998 | (269) 782-4295 |
Prairie Island Indian Community Mdewakanton Dakota Sioux of Minnesota | Renae Wallace, Family Service Manager | 5636 Sturgeon Lake Road, Welch, MN 55089 | (651) 385-4185 | (651) 385-4183 | rwallace@piic.org
Red Cliff Band of Lake Superior Chippewa Indians of Wisconsin | Chally Topping-Thompson, Indian Child Welfare Director | 88385 Pike Road, Highway 13, Bayfield, WI 54814 | (715) 779-3785 | (715) 779-3783 | chally.topping-thompson@redcliff-nsn.gov
Red Lake Band of Chippewa Indians | Cheri Goodwin, Executive Director-Family & Children Services | P.O. Box 427, Red Lake, MN 56671 | (218) 679-2122 | (218) 679-1665 | cheri.goodwin@redlakenation.org
Saginaw Chippewa Tribe of Michigan | Angela Gonzalez, ICWA & Licensing Supervisor | 7070 East Broadway Road, Mt. Pleasant, MI 48858 | (989) 775-4901 | (989) 775-4912 | agonzalez@sagchip.org
Sault Ste. Marie Tribe of Chippewa Indians of Michigan | Juanita Bye, ACFS Division Director | 2218 Shunk Rd, Sault Ste. Marie, MI 49783 | (906) 632-5250 | (906) 632-5266 | jbye@saulttribe.net
Shakopee Mdewakanton Sioux Community | Karen Ross, ICWA Representative | 2330 Sioux Trail NW, Prior Lake, MN 55372 | (952) 445-8900 or (952) 496-6112 | (952) 445-8906 |
Sokaogon Chippewa Community of Wisconsin | Amanda Vanzile, Director Family Services | 10808 Sokaogon Drive, Crandon, WI 54520 | (715) 478-3265 | (715) 478-7618 | amanda.vanzile@scc-sns.gov
St. Croix Chippewa Indians of Wisconsin | Elizabeth Lowe, Indian Child Welfare Director | 4404 State Rd. 70, Webster, WI 54893 | (715) 349-8554 Ext. 5264 or (715) 349-2671 | (715) 349-8665 | elizabethl@stcroixtribalcenter.com
St. Croix Chippewa Indians of Wisconsin | Erin Fowler, Indian Child Welfare Director | 24670 State Road 35/70, Suite 800, Siren, WI 54872 | (715) 349-2195 Ext. 5339 | (715) 349-8665 | erinf@stcroixtribalcenter.com
Stockbridge-Munsee Community of Wisconsin | Teresa Juga, ICWA Manager | Stockbridge Munsee Health and Wellness Center, W12802 County A, Bowler, WI 54416 | (715) 793-4580 | (715) 793-1312 | teresa.juga@mohican.com
Upper Sioux Community of Minnesota | Lynette Tellinghuisen, ICWA Manager | PO Box 147, 5744 Hwy. 67, Granite Falls, MN 56241 | (320) 564-6315 | (320) 564-2550 | linettet@uppersiouxcommunity-nsn.gov
White Earth Reservation Business Committee | Laurie York, Program Director | White Earth Indian Child Welfare, P.O. Box 358, White Earth, MN 56591 | (218) 983-4647 | (218) 983-3712 | laurie.york@whiteearth-nsn.gov

6. Navajo Region

Navajo Regional Director, Bureau of Indian Affairs, P.O. Box 1060, Gallup, New Mexico 87305; Phone: (505) 863-8314; Fax: (505) 863-8324.

Tribe | ICWA POC | Mailing address | Phone number | Fax number | Email address
Navajo Nation | Regina Yazzie, MSW, Director, Navajo Children and Family Services (ICWA) | P.O. Box 1930, Window Rock, AZ 86515 | (928) 871-6806 | (928) 871-7667 | reginayazzie@navajo-nsn.gov

7. Northwest Region

Northwest Regional Director, Bureau of Indian Affairs, 911 NE 11th Avenue, Portland, Oregon 97232; Phone: (503) 231-6702; Fax: (503) 231-2201.

Tribe | ICWA POC | Mailing address | Phone number | Fax number | Email address
Burns Paiute Tribe | Michelle Bradach, Social Service Director | 100 Pasigo Street, Burns, OR 97720 | (541) 573-8043 | (541) 573-4217 | bradachma@burnspaiute-nsn.gov
Coeur d'Alene Tribe | Jennie Louie, Indian Child Welfare Manager | P.O. Box 408, Plummer, ID 83851 | (208) 686-2061 | (208) 686-2059 | jlouie@cdatribe-nsn.gov
Confederated Salish & Kootenai Tribes | Lena Tewawina, ICWA Worker | P.O. Box 278 Pablo, MT 59855 | (406) 675-2700 ext. 6109 | (406) 275-2749 | lenat@cskt.org
Confederated Tribes and Bands of the Yakama Nation | June Adams, ICW Manager | P.O. Box 151, Toppenish, WA 98948 | (509) 865-5121 Ext. 6807 | (509) 865-6869 | june_adams@yakama.com
Confederated Tribes of Coos, Lower Umpqua & Siuslaw Indians | Vicki Faciane, Health & Human Services Director | P.O. Box 3279, Coos Bay, OR 97420 | (541) 888-7515 | (541) 888-1027 | VFaciane@ctclusi.org
Confederated Tribes of Siletz Indians | Cheryl Duprau, ICW Administrator | P.O. Box 549, Siletz, OR 97380 | (541) 444-8272 | (541) 444-8370 | cheryld@ctsi.nsn.us
Confederated Tribes of the Chehalis Reservation | Heather Hoyal, Family Services Director | 420 Howanut Road, Oakville, WA 98568 | (360) 709-1871 | (360) 273-5207 | hhoyal@chehalistribe.org
Confederated Tribes of the Colville | Preston Boyd, Children and Family Services Director | P.O. Box 150, Nespelem, WA 99155-011 | (509) 634-2774 or Cell: (509) 322-2328 | (509) 634-2633 | Preston.boyd@colvilletribes.gov
Confederated Tribes of the Grande Ronde Community of Oregon | Kristi Petite, ICWA Contact | 9615 Grand Ronde Road, Grand Ronde, OR 97347-0038 | (503) 879-2034 | (503) 879-2142 | kristi.petite@grandronde.org
Confederated Tribes of the Umatilla Indian Reservation | M. Brent Leonhard, Attorney | 46411 Timine Way, Pendleton, OR 97801 | (541) 429-7406 | (541) 429-7402 | brentleonhard@ctuir.org
Confederated Tribes of Warm Springs Reservation | Lisa Lomas, Associate Judge | P.O. Box 850, Warm Springs, OR 97761 | (541) 553-3287 | (541) 553-3281 | lisa.loma@wstribes.org
Coquille Indian Tribe | Roni Jackson, ICWA Caseworker | 600 Miluk Drive, P.O. Box 3190, Coos Bay, OR 97420 | (541) 888-9494 Ext. 2219 | (541) 888-0673 | ronijackson@coquilletribe.org
Coushatta Tribe of Louisiana | Milton Hebert, MSW, CADC, CGAC, Social Service Director | P.O. Box 967, Elton, LA 70532 | (337) 584-1433 | (337) 584-1474 | mhebert@coushattatribela.org
Cow Creek Band of Umpqua Tribe of Indians | Michelle Moore, Human Services Director, ICWA Specialist | 2371 NE Stephens Street, Roseburg, OR 97470 | (541) 677-5575 | (541) 677-5565 | mmoore@cowcreek.com
Cowlitz Indian Tribe | Mike Yates, ICWA Director | P.O. Box 2547, Longview, WA 98632-8594 | (360) 577-8140 | (360) 577-7432
Hoh Indian Tribe | Katie Pullon, ICWA Case Manager | P.O. Box 2196, Forks, WA 98331 | (360) 374-3271 | (360) 374-5426 | katie.pullon@hohtribe-nsn.org
Jamestown S'Klallam Tribe | Tanya Pankoski, ICW Case Worker | Social and Community Services, 1033 Old Blyn Hwy, Sequim, WA 98382 | (360) 681-4639 | (360) 681-3402 | t.pankoski@jamestowntribe.org
Kalispel Tribe of Indians | Wendy Thomas, MSW, Social Services Director | 934 S Garfield Road, Airway Heights, WA 99001 | (509) 789-7630 | (509) 789-7675 | wthomas@camashealth.com
Klamath Tribes | Candi Uses Arrow, Child Welfare Program Manager | P.O. Box 436 Chiloquin, OR 97624 | (541) 783-2219 | (541) 783-2219 | candi.usesarrow@klamathtribes.com
Kootenai Tribal Council | Velma Bahe, ICWA Contact | P.O. Box 1269 Bonners Ferry, ID 83805-1269 | (208) 267-8451
Lower Elwha Tribal Community Council | Rebecca Sampson Weed, ICWA Case Worker | 2851 Lower Elwha Road, Port Angeles, WA 98363 | (360) 452-8471 ext.7456 | (360) 452-3428 | becca.weed@elwha.org
Lummi Tribe of the Lummi Reservation | Ralph Jefferson, Child Welfare Director and Kim Goesbehind, ICWA Supervisor | P.O. Box 1024, Ferndale, WA 98248 | (360) 384-2324 | (360) 384-2341 | kymg@lummi-nsn.gov
Makah Indian Tribal Council | Robin Denney, Social Services Manager and Isan Simpson, ICW Caseworker | P.O. Box 115, Neah Bay, WA 98357 | (360) 645-3251/3257 | (360) 645-2806 | robin.denney@makah.com
Metlakatla Indian Community | Craig H. White, Director, Darlene Booth, ICW Case Worker, Jacqueline Wilson, ICW Case Worker | P.O. Box 8 Metlakatla, AK 99926 | (907) 886-6914 | (907) 886-6913 | jwilsonm4@outlook.com
Muckleshoot Indian Tribe | Cynthia Orie, Social Services Manager | 39015 172nd Avenue SE., Auburn, WA 98092 | (254) 876-3396 | (254) 876-3095 | cynthia.orie@muckleshoot-nsn.us
Nez Perce Tribe | Joni Williams, LSW, MSW, Indian Child Welfare Social Worker II | 271 B Street, P.O. Box 365, Lapwai, ID 83540 | (208) 843-7302 Ext. 4666 | (208) 843-9401 | jeanettep@nezperce.org
Nisqually Indian Community | Lorraine Van Brunt, Child and Family Services and Alana Begay, ICW Case Worker and Deborah Guerrero, ICW Case Worker | 4820 She-Nah-Num Drive SE., Olympia, WA 98513 | (360) 456-5221 | (360) 486-9555 | alana.begay@nisqually-nsn-gov; deborah.guerrero@nisqually-nsns.gov
Nooksack Indian Tribe of Washington | Ken Levinson, ICW Program Manager and Denise Jefferson, ICW Manager | 5061 Deming Road, Deming, WA 98244 | (360) 306-5090 | (360) 306-5099 | klevinson@nooksack-nsn.gov; djefferson@noocksack-nsn.gov
Northwestern Band of Shoshoni Nation | Patty Timbimboo | Enrollment Department, 707 North Main, Brigham City, UT 84302 | (435) 734-2286 | (435) 734-0424 | ptimbimboo@nwbshoshone.com
Port Gamble Indian Community | Cheryl Miller, Children and Family Community Services Director and Joylina Gonzales | 31912 Little Boston Road NE., Kingston, WA 98346 | (360) 297-9665 | (360) 297-9666 | cmiller@pgst.nsn.gov; jgonzales@pgst.nsn.gov
Puyallup Tribe | Sandra Cooper, ICWA Liaison and Drew Wilson, ICWA Liaison | 3009 E. Portland Avenue, Tacoma, WA 98404 | (253) 405-7544 or (253) 358-0431 | (253) 680-5769 | sandra.Cooper@puyalluptribe.com; DrewWilson@puyalluptribe.com
Quileute Tribal Council | Bonita Cleveland, Tribal Chair | P.O. Box 279, LaPush, WA 98350 | (360) 374-6155 | (360) 374-6311 | bonita.cleveland@quileutenation.org
Quinault Indian Nation | Aliza Brown, Family Services Supervisor | P.O. Box 189, Taholah, WA 98587 | (360) 276-8215 Ext. 355 or Cell: (360) 590-1933 | (360) 276-4152 | abrown@quinault.org
Samish Indian Nation | Michelle Johnson, Family Services Specialist | Samish Nation Social Services, P.O. Box 217, Anacortes, WA 98221 | (360) 899-5282 | (360) 299-4357 | mjohnson@samishtribe.nsn.us
Sauk-Suiattle Indian Tribe of Washington | Donna Furchert, ICW Director | 5318 Chief Brown Lane, Darrington, WA 98241 | (360) 436-2849 | (360) 436-0471 | dfucgert@sauk-suiattle.com
Shoalwater Bay Tribal Council | Katherine Horne, Director, Social Services | P.O. Box 130, Tokeland, WA 98590 | (360) 267-6766 Ext. 8134 | (360) 267-0247 | khorne@shoalwaterbay-nsn.gov
Shoshone Bannock Tribes of the Fort Hall Reservation | Brandelle Whitworth, Tribal Attorney | P.O. Box 306, Ft. Hall, ID 83203 | (208) 478-3923 | (208) 237-9736 | bwitworth@sbtribes.com
Skokomish Tribal Council | Linda Charrette, ICWA Caseworker and Rosetta LaClair, ICWA Caseworker | N. 80 Tribal Center Road, Shelton, WA 98584-9748 | (360) 426-7788 | (360) 877-2151 | rlaclair@skokomish.org
Snoqualmie Tribe | Marilee Mai, ICW Program Manager | P.O. Box 96, Snoqualmie, WA 98045 | (425) 888-6551 Ext. 6235
Spokane Tribe of Indians | Tawhnee Colvin, Program Manager/Case Manager | P.O. Box 540, Wellpinit, WA 99040 | (509) 258-7502 | (509) 258-7029 | tawhneec@spokanetribe.com
Squaxin Island Tribal Council | Donald Whitener, Tribal Administrator | 10 SE Squaxin Lane, Shelton, WA 98584-9200 | (360) 432-3900 | (360) 426-6577 | dwhitener@squaxin.us
Stillaquamish Tribe of Washington | Gloria Green, ICW Director | P.O. Box 3782 or 17014 59th Ave NE., Arlington, WA 98223 | (360) 435-5029 Ext. 21 | (360) 435-2867 | ggreen@stillaquamish.com
Suquamish Tribe of the Port Madison Reservation | Dennis Deaton, ICWA Contact | P.O. Box 498, Suquamish, WA 98392 | (360) 394-8478 | (360) 697-6774
Swinomish Indians | Tracy Parker, Swinomish Family Services Coordinator | 17337 Reservation Rd, LaConner, WA 98257 | (360) 466-7222 | (360) 466-1632 | tparker@swinomish.nsn.us
Tulalip Tribe | Jennifer Walls, Lead ICW Worker and Roberta Hillaire, ICW Manager | 2828 Mission Hill Road, Tulalip, WA 98271 | (360) 716-3284 | (360) 716-0750 | jwalls@tulaliptribe-nsn.gov; rhallaire@tulaliptribe-nsn.gov
Upper Skagit Indian Tribe of Washington | Felice Keegahn, Indian Child Welfare Coordinator | 25959 Community Plaza Way, Sedro Woolley, WA 98284 | (360) 854-7077 | (360) 854-7125 | felicek@upperskagit.com
Washoe Tribe of Nevada and California | Cynthia Blacksmith, Social Services Director | 919 US Highway 395 S., Gardnerville, NV 89410 | (775) 265-8600 | (775) 265-4593 | cindy.blacksmith@washoetribe.us

8. Pacific Region

Pacific Regional Director, Bureau of Indian Affairs, Federal Building, 2800 Cottage Way, Room W-2820, Sacramento, California 95825; Phone: (916) 978-6000; Fax: (916) 978-6099.

Tribe | ICWA POC | Mailing address | Phone number | Fax number | Email address
Agua Caliente Band of Cahuilla Indians | John T. Plata, General Counsel | 5401 Dinah Shore Drive, Palm Springs, CA 92264 | (760) 669- 6837 | (760) 699-6863 | jplata@aguacaliente.net
Alturas Rancheria | Chairman | P.O. Box 340, Alturas, CA 96101 | (530) 233-5571 | (530) 223-4165 |
Auburn Rancheria | Judy Beck, Director Community Services | United Auburn Indian Community, 935 Indian Rancheria Road, Auburn, CA 95603 | (916) 251-1550 | (530) 887-1028 | jbeck@auburnracheria.com
Augustine Band of Cahuilla Indians | Amanda Vance, Chairperson | P.O. Box 846, Coachella, CA 92236 | (760) 398-4722 | (760) 369-7161 | hhaines@augustinetribe.com
Barona Band of Mission Indians | Jahari Weir Harrison, Indian Child Social Services Program Coordinator | Southern Indian Health Council, Inc., 4058 Willow Rd., Alpine, CA 91903 | (619) 445-1188 Ext. 208 | (619) 659-9782 | jharrison@sihc.org
Barona Band of Mission Indians | Kumeyaay Family Services Director | Southern Indian Health Council, Inc., 4058 Willow Rd., Alpine, CA 91903 | (619) 445-1188 | (619) 445-0765
Bear River of Rhonerville Rancheria | Chisa Oros, ICWA Advocate | 266 Keisner Rd., Loleta, CA 95551 | (707) 773-1900 Ext. 169 | (707) 875-7229 | chisaoros@brb-nsn.gov
Big Lagoon Rancheria | Chairperson | P.O. Box 3060, Trinidad, CA 95570 | (707) 826-2079 | (707) 826-0495
Big Pine Paiute Tribe | Jill Paydon, Tribal Administrator/ICWA Representative | P.O. Box 700, Big Pine, CA 93513; 825 S. Main St., Big Pine, CA 93513 | (760) 938-2003 Ext. 223 | (760) 938-2942 | j.paydon@bigpinepaiute.org
Big Sandy Rancheria | Regina Riley, Tribal Council Secretary | P.O. Box 337, Auberry, CA 93602 | (559) 374-0066 | (559) 374-0055 | GRiley@bsrnation.com
Big Valley Rancheria | Nancy Hernandez, ICWA Representative | ICWA, 2726 Mission Rancheria Road, Lakeport, CA 95453 | (707) 263-3924 | (707) 533-2941 | nhernandez@big-valley.net
Bishop Paiute Tribe | Arlene Brown, Social Services Director | 50 TuSu Lane, Bishop, CA 93514 | (760) 873-4414 | (760) 582-8141 | arlene.brown@bishoppaiute.org
Blue Lake Rancheria | Arlea Ramsey, Tribal Administrator | P.O. Box 428, Blue Lake, CA 95525 | (707) 668-5101 | (707) 668-4272 | aramsey@bluelakerancheria-nsn.gov
Bridgeport Indian Colony | John Glazier, Tribal Chairman | P.O. Box 37 Bridgeport, CA 93517; 355 Sage Brush Drive, Bridgeport, CA 93517 | (760) 932-7083 | (760) 932-7846 | chair@bridgeportindiancolony.com
Buena Vista Rancheria of Me-Wuik Indians | Jocelyn Pastram, Tribal Secretary | 1418 20th Street, Suite 200, Sacramento, CA 95811 | (916) 491-0011 | (916) 491-0012 | jocelyn@buenavistatribe.com
Cabazon Band of Mission Indians | Chairman | 84-245 Indio Springs Drive, Indio, CA 92201 | (760) 342-2593 | (760) 347-7880 |
Cachil DeHe Wintun/Colusa Indian Community | Yvonne Page, Counselor | 3730 Highway 45, Colusa, CA 95932 | (530) 458- 6571 | (530) 458-8061 | ypage@colusa-nsn.gov
Cahuilla Band of Mission Indians | Tribal Council | 52701 Hwy 371, Anza, CA 92539 | (951) 763-5549 | (951) 763-2808 | tribalcouncil@cahuilla.net
California Valley Miwok Tribe | As of this date, there is no recognized government for this federally recognized tribe. Please contact Pacific Regional Director for up to date information
Campo Band of Mission Indians | Jahari Weir Harrison, Indian Child Social Services Program Coordinator | Southern Indian Health Council, Inc., 4058 Willow Rd., Alpine, CA 91903 | (619) 445-1188 Ext. 208 | (619) 659-9782 | jharrison@sihc.org
Campo Band of Mission Indians | Charity White-Voth, Kumeyaay Family Services Director | Kumeyaay, Southern Indian Health Council, Inc. 4058 Willow Rd., Alpine, CA 91903 | (619) 445-1188 | (619) 445-0765 | jharrison@sihc.org
Cedarville Rancheria | Nikki Munholand, Tribal Administrator | 300 West First Street, Alturas, CA 96101 | (530) 233-3969 | (530) 233-4776 | cr.munholand@gmail.com
Cher-Ae Heights Indian Community of the Trinidad Rancheria | Amy Atkins, Executive Manager | P.O. Box 630, Trinidad, CA 95570 | (707) 677-0211 | (707) 677-3921 | aatkins@trinidadrancheria.com
Chicken Ranch Rancheria | Monica Fox, Office Manager | P.O. Box 1159, Jamestown, CA 95327 | (209) 984-9066 | (209) 984-9269 | mfox@ctibal.com
Cloverdale Rancheria of Pomo Indians | Trina Vega, ICWA Advocate | 555 S. Cloverdale Blvd., Cloverdale, CA 95425 | (707) 894-5775 | (707) 894-5727 | trina@cloverdalerancheria.com
Cold Spring Rancheria | ICWA Coordinator | P.O. Box 209 Tollhouse, CA 93667 | (559) 855-5043
Cortina Band of Wintun Indians (Cortina Indian Rancheria) | Charlie Wright, Tribal Chairman | P.O. Box 1630, Williams, CA 95987 | (530) 473-3274 | (530) 473-3301
Coyote Valley Band of Pomo Indians | Lorraine Laiwa | Indian Child And Family Preservation Program, 684 South Orchard Avenue, Ukiah, CA 95482 | (707) 463-2644 | (707) 463-8956
Dry Creek Rancheria Band of Pomo Indians | Percy Tejada, ICWA Advocate | P.O. Box 607, Geyserville, CA 95441 | (707) 431-4090 | (707) 522-4291 | percyt@drycreekrancheria.com
Elem Indian Colony | Agustin Garcia, Chairman | P.O. Box 757, Lower Lake, CA 95457 | (707) 994-3400 | (707) 994-3408 | t.brown@elemindiancolony.org
Elk Valley Rancheria | Christina Jones, Council Enrollment Officer & Secretary | 2332 Howland Hill Rd, Crescent City, CA 95531 | (707) 464-4680 | (707) 464-4519 | lquinnell@elk-valley.com
Enterprise Rancheria | Shari Ghalayini, ICWA Director | 2133 Monte Vista Ave, Oroville, CA 95966 | (530) 532-9214 | (530) 532-1768 | sharig@enterpriserancheria.org
Ewiiaapaayp (Cuyapaipe) Band of Kumeyaay Indians | Will Micklin, CEO | 4050 Willow Road, Alpine, CA 91901 | (619) 445-6315 | (619) 445-9126 | wmicklin@leaningrock.net
Federated Indians of Graton Rancheria | Lara Walker | Human Services, 6400 Redwood Drive, Suite 300, Rohnert Park, CA 94928 | (707) 586-6110 | (707) 586-2982 | lwalker@gratonrancheria.com
Fort Bidwell Reservation | Bernold Pollard, Chairperson | P.O. Box 129, Fort Bidwell, CA 96112 | (530) 279-6310 | (530) 279-2233
Fort Independence Reservation | Stephanie Arman, Secretary/Treasurer | P.O. Box 67 or 131 North Hwy 395, Independence, CA 93526 | (760) 878-5160 | (760) 878-2311 | secretarytreasurer@fortindependence.com
Fort Mojave Indian Tribe | Melvin Lewis, Sr., Social Services Department Director | 500 Merriman Avenue, Needles, CA 92363 | (928) 346-1550; (866) 346-6010 | (928) 346-1552 | ssdir@ftmojave.com
Greenville Rancheria | Patty Allen, ICWA Coordinator | P.O. Box 279, Greenville, CA 95947 | (530) 284-7990 | (530) 284-7299 | pallen@greenvillerancheria.com
Grindstone Rancheria | Aaston Bill | ICWA, P.O. Box 63, Elk Creek, CA 95939 | (530) 968-5365 | (530) 968-5366 |
Guidiville Rancheria | Merlene Sanchez, Tribal Chairperson | P.O. Box 339, Talmage, CA 95481 | (707) 462-3682 | (707) 462-9183 | admin@guidiville.net
Habematolel Pomo of Upper Lake Rancheria | Angelina Arroyo, ICWA Advocate | 375 E. Hwy 20, Suite I, P.O. Box 516, Upper Lake, CA 95485-0516 | (707) 275-0737 Ext. 2; (707) 275-9050 Ext. 202 | (707) 275-0757 | aarroyo@hpultribe-NSN.gov
Hoopa Valley Tribe | Director, Human Services | P.O. Box 1348, Hoopa, CA 95546 | (530) 625-4211
Hopland Band of Pomo Indians | Josephine Loomis, ICWA Social Case Manager | 3000 Shanel Rd., Hopland, CA 95449 | (707) 472-2100 Ext. 1114 | (707) 744-8643 | jloomis@hoplandtribe.com
Inaja & Cosmit Band of Mission Indians | Director of Social Services | Tribal Family Services, Indian Health Council, Inc., P.O. Box 406, Pauma Valley, CA 92061 | (760) 749-1410 | (760) 749-5518 | kkolb@indianhealth.com
Ione Band of Miwok Indians | Tracy Tripp, Vice-Chair | P.O. Box 699, Plymouth, CA 95669 | (209) 257-9196 | (209) 245-6377 | tracy@ionemiwok.org
Jackson Rancheria Band of Miwuk Indians | Marshawn Morla, Tribal Secretary | P.O. Box 1090, Jackson, CA 95642 | (209) 223-1935 | (209) 223-5366 | mmorla@jacksoncasino.com
Jamul Indian Village | Charity White-Voth, Kumeyaay Family Services Director | Southern Indian Health Council, Inc., 4058 Willow Rd., Alpine, CA 91903 | (619) 445-1188 | (619) 445-0765
Karuk Tribe of California | Patricia Hobbs, LCSW, Director Child and Family Services | 1519 S. Oregon Street, Yreka, CA 96097 | (530) 841-3141 Ext. 6304 | (530) 841-5150 | phobbs@karuk.us
Kashia Band of Pomo Indians of the Stewarts Point Rancheria | Melissa Cerda, Administrative Assistant | 1420 Guerneville Rd, Suite 1, Santa Rosa, CA 95403 | (707) 591-0580 | (707) 591-0583 | melissa@stewartspoint.org
Koi Nation of Northern California (Previously Lower Lake Rancheria) | Chairperson | P.O. Box 3162, Santa Rosa, CA 95402 | (707) 575-5586 | (707) 575-5506 |
La Jolla Band of Luiseno Indians | Director of Social Services | P.O. Box 406, Pauma Valley, CA 92061 | (760) 749-5518 | (707) 749-5518 | kkolb@indianhealth.com
La Posta Band of Mission Indians | Jahari Weir Harrison, Indian Child Social Services Program Coordinator | Kumeyaay, Southern Indian Health Council, Inc., 4058 Willow Rd., Alpine, CA 91903 | (619) 445-1188 | (619) 445-0765 | jarrison@sihc.org
Laytonville Rancheria | Cherie Smith-Gibson, Tribal Administrator | P.O. Box 1239, Laytonville, CA 95454 | (707) 984-6197 Ext. 104 | (707) 984-6201 | ta@cahto.org
Lone Pine Paiute Shoshone Reservation | Kathy Brancroft, Enrollment Committee Chairperson | P.O. Box 747, Lone Pine, CA 93545 | (760) 876-1034 | (760) 876-8302 |
Los Coyotes Band of Cahuilla & Cupeno Indians | Tribal Family Services; Director of Social Services; Indian Health Council, Inc. | P.O. Box 406, Pauma Valley, CA 92061 | (760) 749-1410 | (760) 749-5518 | kkolb@indianhealth.com
Lytton Rancheria | Liz DeRouen | Indian Child and Family Preservation Program, 2525 Cleveland Ave, Suite H, Santa Rosa, CA 95403 | (707) 544-8509 | (707) 544-8729 | lizderouen@sbcglobal.net
Manchester-Point Arena Band of Pomo Indians | Lorraine Laiwa, Program Director | Indian Child & Family Preservation Program 684 S. Orchard Ave. Ukiah, CA 95482 | (707) 463-2644 | (707) 463-8956 | lizderouen@sbcglobal.net
Manzanita Band of Mission Indians | Chairperson | P.O. Box 1302, Boulevard, CA 91905 | (619) 766-4930 | (619) 766-4957
Mechoopda Indian Tribe of the Chico Rancheria | Susan Bromley, Office Manager | 125 Mission Ranch Boulevard, Chico, CA 95926 | (530) 899-8922 Ext. 210 | (530) 899-8517 | sbromley@mechoopda-nsn.gov
Mesa Grande Band of Mission Indians | Director of Social Services | Tribal Family Services, Indian Health Council, Inc., P.O. Box 406, Pauma Valley, CA 92061 | (760) 749-1410 | (760) 749-5518 | kkolb@indianhealth.com
Middletown Rancheria | Mary Comito, ICWA Director | P.O. Box 1829, Middletown, CA 95461 | (707) 987-8288; (707) 326-6876 | (707) 987-8205 | mcomito@middletownrancheria.com
Mooretown Rancheria of Maidu Indians in California | Gary Archuleta, Tribal Chairman | 1 Alverda Drive, Oroville, CA 95966 | (530) 533-3625 | (530) 533-4080 | gwarchuleta@mooretown.org
Morongo Band of Cahuilla Mission Indians | Paula Tobler, Social Worker | 11581 Potrero Road, Banning, CA 92220 | (951) 849-4697 | (951) 922-0338 |
North Fork Rancheria of Mono Indians | Elaine Fink, Tribal Chairwoman | P.O. Box 929, North Fork, CA 93643 | (559) 877-2484 | (559) 877-2467 | efink@northforkrancheria-nsn.gov
Pala Band of Mission Indians | Season Lattin, ICWA Manager | Department of Social Services, 35008 Pala-Temecula Road, PMB 50, Pala, CA 92059 | (760) 891-3542 | (760) 742-1293
Paskenta Band of Nomlaki Indians | Ines Crosby, Tribal Administrator | 1012 South Street, Orland, CA 95963 | (530) 865-2010 | (530) 865-1870 | office@paskenta.org
Pauma & Yuima Band of Mission Indians | Tribal Family Services, Director of Social Services Indian Health Council, Inc. | P.O. Box 406, Pauma Valley, CA 92061 | (760) 749-1410 | (760) 749-5518 | kkolb@indianhealth.com
Pechanga Band of Mission Indians | Mark Macarro, Chairman | P.O. Box 1477, Temecula, CA 92593 | (951) 770-6105 | (951) 693-5543 | cfs@pechanga-nsn.gov
Picayune Rancheria of Chukchansi Indians | Orianna C. Walker, ICWA Coordinator | 46575 Road 417, Coarsegold, CA 93614 | (559) 683-6633 Ext: 212 | (559) 683-0599 | orianna.walker@chukchansi.net
Pinoleville Pomo Nation | Veronica Timberlake, Social Services Director/ICWA Advocate | 500 B Pinoleville Drive, Ukiah, CA 95482 | (707) 463-1454 | (707) 463-6601 | veronicat@pinoleville-nsn.us
Pit River Tribe | Vernon Ward, Jr., Coordinator, Social Services | 36970 Park Avenue, Burney, CA 96013 | (530) 335-5530 | (530) 335-3140 |
Potter Valley Tribe | Salvador Rosales, Tribal Chairman | 2251 South State Street, Ukiah, CA 95482 | (707) 462-1213 | (707) 462-1240 | pottervalleytribe@pottervalleytribe.com
Quartz Valley Indian Reservation | Mike Slizewski, ICWA Director | 13601 Quartz Valley Rd., Fort Jones, CA 96032 | (530) 468-5907 Ext. 312 | (530) 468-5908 | Mike.Slizewski@qvir-nsn.gov
Ramona Band or Village of Cahuilla Mission Indians | Susan Reckker, Tribal Administrator | P.O. Box 391670, Anza, CA 92539 | (951) 763-4105 | (951) 763-4325 | sreckker@ramonatribe.com
Redding Rancheria | Director, Social Services | 2000 Rancheria Road, Redding, CA 96001-5528 | (530) 225-8979
Redwood Valley Rancheria-Band of Pomo | Chris Piekarski, ICWA Coordinator | 3250 Road I, “B” Building, Redwood Valley, CA 95470 | (707) 485-0361 | (707) 485-5726 | icwa@rvrpomo.net
Resighini Rancheria | Keshan Dowd, Social Services Director | P.O. Box 529, Klamath, CA 95548 | (707) 482-2431 | (707) 482-3425 | keshandowd08@gmail.com
Rincon Band of Luiseno Mission Indians | Director of Social Services | Tribal Family Services, Indian Health Council, Inc., P.O. Box 406, Pauma Valley, CA 2062 | (760) 749-1410 | (760) 749-5518 | kkolb@indianhealth.com
Robinson Rancheria | ICWA Coordinator | P.O. Box 4015, Nice, CA 95464 | (707) 275-0527 | (707) 275-0235 | mvasquez@robinsonrancheria.com
Round Valley Reservation | Steven Luna, Director | 77826 Covelo Road, Covelo, CA 95428 | (707) 983-8008 | (707) 983-6060 | sluna@icwa.rvit.org
San Manuel Band of Mission Indians | Tribal Secretary | 26569 Community Center Drive, Highland, CA 92346 | (909) 864-8933 | (909) 864-0890 | broberson@sanmanual-nsn.gov
San Pasqual Band of Diegueno Mission Indians | Director of Social Services | Tribal Family Services, Indian Health Council, Inc., P.O. Box 406, Pauma Valley, CA 92061 | (760) 749-1410 | (760) 749-5518 | kkolb@indianhealth.com
Santa Rosa Band of Cahuilla Mission Indians | Terrance Hughes, Tribal Administrator | P.O. Box 391820, Anza, CA 92539 | (951) 659-2700 | (951) 689-2228 | thughes@santarosacahuilla-nsn.gov
Santa Rosa Rancheria Tachi-Yokut Tribe | Janice Cuara, Tribal Administrator | 16835 Alkali Drive, P.O. Box 8, Lemoore, CA 93245 | (559) 924-1278 Ext. 4051; (559) 381-4928 | (559) 925-2931 | jcuara@tachi-yokut.com
Santa Ynez Band of Chumash Mission Indians of the Santa Ynez | Caren Romero, ICWA Representative | 90 Via Juana Lane, Santa Ynez, CA 93460 | (805) 694-2671 | (805) 686-2060 | cromero@sythc.com
Santa Ysabel Band of Mission Indians-Iipay Nation | Linda Ruis, Director | Santa Ysabel Social Services Dept., P.O. Box 701, Santa Ysabel, CA 92070 | (760) 765-1106 | (760) 765-0312 |
Scotts Valley Band of Pomo Indians | Tribal ICWA Worker | 301 Industrial Ave., Lakeport, CA 95453 | (707) 263-4220 | (707) 263-4345 | cmiller@svpomo.org
Sherwood Valley Rancheria | Michael Fitzgerral, Tribal Chairman | 190 Sherwood Hill Drive, Willits, CA 95490 | (707) 459-9690 | (707) 459-6936 | svrchair@gmail.com
Shingle Springs Band of Miwok Indians (Shingle Springs Rancheria) | Malissa Tayaba, Social Services Director | P.O. Box 1340, Shingle Springs, CA 95682 | (530) 698-1436; (530) 698-1400 | (530) 387-8041 | mtayaba@ssband.org
Soboba Band of Luiseno Indians | Cathryn L. Leff, Director of Tribal Family Services | Soboba Tribal Family Services Dept., P.O. Box 487, San Jacinto, CA 92581 | (951) 487-0283 | (951) 487-1738 | cleff@soboba-nsn.gov
Susanville Indian Rancheria | Deborah Olstad, Tribal Office Manager | 745 Joaquin St., Susanville, CA 96130 | (530) 251-5153 | (530) 257-7986 | dolstad@citlink.net
Sycuan Band of Mission Indians | Charity White-Voth, Kumeyaay Family Services Director | Southern Indian Health Council, Inc., 4058 Willow Rd., Alpine, CA 91903 | (619) 445-1188 | (619) 445-0765 |
Table Mountain Rancheria | Frank Marquez Jr., Tribal Chief of Police | 23736 Sky Harbour Rd., Friant, CA 93626 | (559) 822-6336 | (559) 822-6340 | fmarquezjr@tmr.org
Timbi-sha Shoshone Tribe | Wallace Eddy, ICWA Representative | 621 West Line Street, Suite 109, Bishop, CA 93514 | (760) 872-3614 | (760) 872-3670 | icwa@timbisha.com
Tolowa Dee-ni' Nation (Smith River Rancheria) | Dorothy Perry, Director | Community & Family Services 110 W. 1t St., Smith River, CA 95567 | (707) 487-9255 | (707) 487-0137 | dwait@tolowa.com
Torres Martinez Desert Cahuilla Indians | Annette Chihuahua, ICWA Case Assistant/Tribal Delegate | TMDCI 66-725 Martinez Rd., Thermal, CA 92274 | (760) 578-8334; (760) 397-0455 | (760) 397-1019 | achihuahua@tmdci.org
Trinidad Rancheria (Cher-Ae Heights Indian Community of the Trinidad Rancheria) | Amy Atkins, Executive Manager | P.O. Box 630, Trinidad, CA 95570 | (707) 677-0211 | (707) 677-3921 | aatkins@trinidadrancheria.com
Tule River Reservation | Lolita Garfield, MSW, Director Family Social Services | 340 North Reservation Road, Porterville, CA 93258 | (559) 781-4271 Ext. 1013 | (559) 791-2122 | icwadir@tulerivertribe-nsn.gov
Tuolumne Band of Me-Wuk Indians | Diana Carpenter, ICWA Representative | P.O. Box 615, Tuolumne, CA 95379 | (209) 928-5357
Tuolumne Band of Me-Wuk Indians of the Tuolumne Rancheria of California | Diana Carpenter, ICWA Representative | P.O. Box 615, Tuolumne, CA 95379 | (209) 928-5357
Twenty-Nine Palms Band of Mission Indians | Executive Director, Indian Child & Family Services | P.O. Box 2269, Temecula, CA 92590 | (951) 676-8832 | (951) 676-3950
Tyme Maidu Tribe (Berry Creek Rancheria) | Terilynn Steel, ICWA Supervisor | 5 Tyme Way, Oroville, CA 95966 | (530) 534-3859 | (530) 534-1151 | jessebrown@berrycreekrancheria.com
United Auburn Indian Community of the Auburn Rancheria of California | Judy Beck, Director Community Services | United Auburn Indian Community, 935 Indian Rancheria Road, Auburn, CA 95603 | (916) 251-1550 | (530) 887-1028 | jbeck@auburnrancheria.com
Utu Utu Gwaitu Paiute Tribe of the Benton Reservation | Megan Leplat, ICWA Worker | 25669 Hwy 6, PMB I, Benton, CA 93512 | (760) 933-2321 | (760) 933-2412 | meganleplat@gmail.com
Viejas (Baron Long) Band of Mission Indian | Jahari Weir Harrison, Indian Child Social Services Program Coordinator | Southern Indian Health Council, Inc., 4058 Willow Rd., Alpine, CA 91903 | (619) 445-1188 | (619) 445-0765 | jharrison@sihc.org
Wilton Rancheria | Vanessa Pady, Director | ICWA 9728 Kent St. Elk Grove, CA 95624 | (707) 683-6000 Ext. 2014 | (916) 683-6015 | vpady@wiltonrancheria-nsn.gov
Wiyot Tribe | Sarah Vevoda, Director of Social Services | 1000 Wiyot Drive, Loleta, CA 95551 | (707) 733-5055 | (707) 482-1377
Yocha Dehe Wintun Nation (previously listed as the Rumsey Indian Rancheria of Wintun Indians) | James Kinter, Tribal Council Secretary | P.O. Box 18, Brooks, CA 95606 | (530) 796-3400 | (530) 796-2143 | djones@yochadehe-nsn.gov
Yurok Tribe | Social Services Director | P.O. Box 1027, Klamath, CA 95548 | (707) 482-1350 | (707) 482-1368 | sweldon@yuroktribe.nsn.us

9. Rocky Mountain Region

Rocky Mountain Regional Director, Bureau of Indian Affairs, 2021 4th Avenue, Billings, Montana 59101; Phone: (406) 247-7943; Fax: (406) 247-7976.

Tribe | ICWA POC | Mailing address | Phone number | Fax number | Email address
Blackfeet Tribe of Montana | Kathy Calf Boss Ribs, ICWA Coordinator, Darlene H. Peterson, ICWA Inquiry Technician | P.O. Box 588, Browning, MT 59417 | (406) 338-7806 | (406) 338-7726 | kathybossribs@yahoo.com
Chippewa Cree Tribe of the Rocky Boy's Reservation of Montana | Shaneen Raining Bird Hammond, Designated Tribal Agent | 31 Agency Square, Box Elder, MT 59521 | (406) 395-5709 | (406) 395-5702 | rainingbirds@yahoo.com
Confederated Salish & Kootenai Tribes | Patricia Courchane, IVE/IVB/ICWA Program Manager | P.O. Box 278, Pablo, MT 59855 | (406) 675-2700 Ext. 1184 | (406) 275-2749 | Patricia.Courchane@cskt.org
Crow Tribe of the Crow Reservation of Montana | Melveen Paula Fisher, ICWA Coordinator | P.O. Box 340, Crow Agency, MT 59022 | (406) 679-3041 |  | melveenpaula.fisher@crow-nsn.gov
Eastern Shoshone Tribe of the Wind River Reservation | Amella Oldman, ICWA Coordinator | P.O. Box 1796, Fort Washakie, WY 82514 | (307) 332-6591 | (307) 332-6593 | artoldman@gmail.com
Fort Peck Assiniboine and Sioux Tribes | Phyllis Spotted Wolf, Designated Tribal Agent | P.O. Box 1027, Poplar, MT 59255 | (406) 768-2308 | (406) 768-3710 | pspottedwolf@fortpecktribes.net
Gros Ventre and Assiniboine Tribe of Fort Belknap Community Council | Director of Tribal Social Services | Rural Route 1, Box 66, Harlem, MT 59526 | (406) 353-2205
Northern Arapaho Tribe of the Wind River Reservation | June Shakespeare, ICWA Coordinator | P.O. Box 77, St. Stevens, WY 82524 | (307) 857-5728 | (307) 857-5741 | june.shakespeare@wyo.gov
Northern Cheyenne Tribe | Mark Roundstone, ICWA Coordinator | P.O. Box 128, Lame Deer, MT 59043 | (406) 477-4830 | (406) 477-8333 | mark.roundstone@cheyennenation.com

10. Southern Plains Region

Southern Plains Regional Director, Bureau of Indian Affairs, P.O. Box 368, Anadarko, Oklahoma 73005; Phone: (405) 247-6673 Ext. 217; Fax: (405) 247-5611.

Tribe | ICWA POC | Mailing address | Phone number | Fax number | Email address
Absentee-Shawnee Tribe of Oklahoma Indians | Ronell Baker, ICW Director | 2025 S. Gordon Cooper Drive, Shawnee, OK 74801 | (405) 275-4030, ext. 6375 | (405) 878-4543
Alabama Coushatta Tribe of Texas | Melissa Celestine, ICW Director | 571 State Park Road, #56, Livingston, Texas 77351 | (936) 563-1253 | (936) 563-1254
Apache Tribe of Oklahoma (Kiowa) | Shannon Ahtone, ICW Director | P.O. Box 369, Carnegie, Oklahoma 73015 | (580) 654-2439 | (580) 654-2363
Caddo Nation of Oklahoma (Wichita & Affiliated Tribes) | Pamela Satepauhoodle, ICW Caseworker | P.O. Box 729, Anadarko, OK 73005 | (405) 247-8624 | (405) 247-3256 | johnna.hurt@wichitatribe.com
Cheyenne and Arapaho Tribes of Oklahoma | Katy Towell, ICW Coordinator | P.O. Box 38, Concho, OK 73022 | (405) 422-7737 (405) 422-7479 | (405) 422-8249 | ktowell@c-a-tribes.org
Citizen Potawatomi Nation | Janet Draper, ICW Director | 1601 S. Gordon Cooper Drive, Shawnee, OK 74801 | (405) 878-4831 | (405) 878-4659 | jdraper@potawatomi.org
Comanche Nation-Oklahoma | Carol Mithlo, ICW Director | P.O. Box 908, Lawton, OK 73502 | (580) 280-4751 | (580) 280-4751 | ramonap@comanchenation.com
Delaware Nation | Cassandra Acuna, ICW Director | P.O. Box 825, Anadarko, OK 73005 | (405) 247-2448 Ext: 1152 | (405) 247-5942 | Jfeliciano@delawarenation.com
Fort Sill Apache Tribe of Oklahoma | Ramona Austin, ICWA Director | Rt. 2, Box 121, Apache, OK 73006 | (580) 522-2298 Ext. 109 | (580) 588-3133 | mona.austin@fortsillapache-nsn.gov
Iowa Tribe of Kansas | Native Amercian Family Services, Inc | 3303 B. Thrasher Rd., White Cloud, KS 66094 | (785) 595-3260
Iowa Tribe of Oklahoma | Ashley Hall, ICW Director | Rt. 1, Box 721, Perkins, OK 74059 | (405) 547-2402 | (405) 547-1060 | amoore@iowanation.org
Kaw Nation | Roger Sober, ICW Director | Drawer 50, Kaw City, Oklahoma 74641 | (580) 269-2003 | (580) 269-2113
Kickapoo Traditional Tribe in Texas | Arianna Perez, ICW Director | 162 Vhick Kazen Street, Eagle Pass, Texas 78852 | (830) 421-6300
Kickapoo Tribe of Indians of The Kickapoo Reservation in Kansas | Timothy Oliver, ICW Director | P.O. Box 271, Horton, KS 66439 | (785) 486-2662, Ext 237 | (785) 486-2724
Kickapoo Tribe of Oklahoma | Mary Davenport, Indian Child Welfare Director | P.O. Box 469, McLoud, OK 74851 | (405) 964-5426 | (405) 964-5431 | mdavenport@kickapootribeofoklahoma.com
Kiowa Tribe of Oklahoma | Shannon Ahtone, ICW Director | P.O. Box 369, Carnegie, Oklahoma 73015 | (580) 654-2439 | (580) 654-2363
Otoe-Missouria Indian Tribe of Oklahoma | Rebecca Monhatwa, Social Services Director | 8151 Highway 177, Red Rock, OK 74651 | (580) 723-4466 Ext. 256 or Cell Phone: (580) 307-7303 | (580) 723-1016 | amehojah@omtribe.org
Pawnee Nation of Oklahoma | Melisalyn Harris, ICWA Director | P.O. Box 470, Pawnee, OK 74058 | (918) 762-3873 | (918) 762-6449
Ponca Tribe of Oklahoma | Amy Oldfield, ICW Director | 20 White Eagle Drive, Ponca City, OK 74601 | (580) 763-0133 | (580) 763-0134
Prairie Band of Potawatomi Nation | Tammy Sweeney, ICW Supervisor | 11400 158 Road, Mayetta, KS 66509 | (785) 966-8325, | (785) 966-8378
Sac and Fox Nation in Kansas and Nebraska | Chasity Davis, ICW Director | 305 N. Main Street, Reserve, KS 66434 | (785) 742-4708 | (785) 288-1163 | egreen@sacandfoxcasino.com
Sac and Fox Nation, Oklahoma | Karen Hamilton, ICW Director | Route 2, Box 246, Stroud, OK 74079 | (918) 968-3526, ext 1711 | (918) 968-4207
Tonkawa Tribe of Oklahoma | Christi Gonzalez, ICW Director | P.O. Box 70, Tonkawa, OK 74653 | (580) 628-7025
Wichita and Affiliated Tribe of Oklahoma | Joan Williams, ICW Director | P.O. Box 729, Anadarko, OK 73005 | (405) 247-8627 | (405) 247-3256 | johnna.hurt@wichitatribe.com

11. Southwest Region

Southwest Regional Director, Bureau of Indian Affairs, 1001 Indian School Road, NW., Albuquerque, New Mexico 87104; Phone: (505) 563-3103; Fax: (505) 563-3101.

Tribe | ICWA POC | Mailing address | Phone number | Fax number | Email address
Jicarilla Apache Nation | Regina Keeswood, ICW Coordinator | P.O. Box 546, Dulce, NM 87528 | (575) 759-1712 | (575) 759-3757 | rkeeswood@jbhd.org
Mescalero Apache Tribe | Crystal Lester, Tribal Census Clerk | P.O. Box 227, Mescalero, NM 88340 | (575) 464-4494 | (575) 464-9191 | clester@mescaleroapachetribe.com
Ohkay Owingeh | Rochelle Thompson, ICWA Manager | P.O. Box 1187, Ohkay Owingeh, NM 87566 | (575) 852-4400 | (505) 692-0333 | rochelle.thompson@ohkayowingeh-nsn.org
Pueblo of Acoma | Marsha Vallo, Child Welfare Coordinator | P.O. Box 354, Acoma, NM 87034 | (505) 552-5162 | (505) 552-0903 | mlvallo@puebloofacoma.org
Pueblo of Cochito | Tanya Devon Torres, ICWA Specialist | P.O. Box 70, Cochiti Pueblo, NM 87072 | (505) 465-3139 | (505) 465-0125 | tanya_torres@pueblodecochiti.org
Pueblo of Isleta | Caroline Dailey, Social Services Director and Jacqueline Yalch, ICWA Coordinator | P.O. Box 1270, Isleta, NM 87022 | (505) 869-2772 or (505) 869-5283 | (505) 869-7575 | poi05001@isletapueblo.com
Pueblo of Jemez | Annette Gachupin, Child Advocate | P.O. Box 340, Jemez Pueblo, NM 87024 | (575) 834-7117 | (575) 834-7103 | agachupin@jemezpueblo.us
Pueblo of Laguna | Marie A. Alarid, Program Manager | Social Services Department, P.O. Box 194, Laguna, NM 87026 | (505) 552-6513 or (505) 552-5677 | (505) 552-6387 | malarid@lagunapueblo-nsn.gov
Pueblo of Nambe | Rhonda Padilla, ICWA Manager | Rte. 1, Box 117-BB, Santa Fe, NM 87506 | (505) 445-0133 | (505) 455-4457 | rpadilla@nambepueblo.org
Pueblo of Picuris | J. Albert Valdez | ICWA, P.O. Box 127, Penasco, NM 87553 | (575) 587-1003 | (575) 587-1003 | jav.icwa@picurispueblo.org
Pueblo of Pojoaque | Elizabeth Duran, MSW, MPH Director | 58 Cities of Gold Rd., Suite 4, Santa Fe, NM 87506 | (505) 455-0238 | (505) 455-2363 | eduran@pojoaque.org
Pueblo of San Felipe | Darlene J. Valencia, ICW Representative | P.O. Box 4339, San Felipe Pueblo, NM 87001 | (505) 771-9900 Ext. 1150 | (505) 771-9978 | dvalencia@sfpueblo.com
Pueblo of San Ildelfonso | Jacqueline X. Benitez, ICWA/Family Advocate | 02 Tunyo Po, Santa Fe, NM 87506 | (505) 455-4164; (505) 699-0164 |  | jbenitez@sanipueblo.org
Pueblo of Sandia | Kimberly Lorenzini, Case Manager | 481 Sandia Loop, Bernalillo, NM 87004 | (505) 771-5117 | (505) 867-7099 | klorenzini@sandiapueblo.nsn.us
Pueblo of Santa Ana | Mary E. Templin, Social Services Manager | 02 Dove Road, Santa Ana Pueblo, NM 87004 | (505) 771-6737 | (505) 771-6537 | mary.templin@santaana-nsn-gov
Pueblo of Santa Clara | Dennis Silva, Director of Social Services | P.O. Box 580, Espanola, NM 87532 | (505) 753-0419 | (505) 753-0420 | dsilva@santaclarapueblo.org
Pueblo of Santo Domingo-Kewa | Doris Bailon, Social Services Director | P.O. Box 129, Santo Domingo, NM 87052 | (505) 465-0630 | (505) 465-2554 | dbailon@kewa-nsn.gov
Pueblo of Taos | Ezra Bayles, Division Director | P.O. Box 1846, Taos, NM 87571 | (575) 758-7824 | (575) 758-3346 | ebayles@taospueblo.com
Pueblo of Tesuque | Donna Quintana, ICW Coordinator | Box 360-T, Route 42, Santa Fe, NM 87506 | (505) 955-7715; (505) 231-7717 | (505) 820-7783 | donna.quintana@pueblooftesuque.org
Pueblo of Zia | Kateri Chino, MSW, Health & Wellness Director | 135 Capital Square Drive, Zia Pueblo, NM 87053 | (505) 401-6830 | (505) 867-6014 | kchino@ziapueblo.org
Pueblo of Zuni | Betty Nez, Social Services Director | P.O. Box 339, Zuni, NM 87327 | (505) 782-7166 | (505) 782-7221 | betty.nez@ashiwi.org
Ramah Navajo | Loretta Martinez, Social Service Director | Ramah Navajo School Board, Inc., Ramah Navajo Social Service Program, P.O. Box 250, Pinehill, NM 87357 | (505) 775-3221 | (505) 775-3520 | lorettamrtnz@yahoo.com
Southern Ute Indian Tribe | Jeri Sindelar, Caseworker; Peg Rogers, Social Services Attorney | MS 53, P.O. Box 737, Ignacio, CO 81137 | (970) 563-0100 Ext. 2332 | (970) 563-4854 | jsindelar@southernute-nsn.gov; dsattorney@southernute-nsn.gov
Ute Mountain Ute Tribe (Colorado & Utah) | Shemeah Richardson, Social Services Director | P.O. Box 309, Towaoc, CO, 81334 | (970) 564-5307 | (970) 564-5300 | srichardson@utemountain.org
Ute Mountain Ute Tribe (Colorado & Utah) | Peter Ortego, General Counsel | P.O. Box 128, Towaoc, CO, 81335 | (970) 564-5641 | (970) 565-0750 | portego@utemountain.org
Ysleta Del Sur Pueblo | Jesus A Donacio, ICWA Program Specialist | 9314 Juanchido Ln., El Paso, TX 79907 | (915) 860-6170 | (915) 242-6556 | e3

12. Western Region

Western Regional Director, Bureau of Indian Affairs, 2600 North Central Avenue, Phoenix, Arizona 85004; Phone: (602) 379-6600; Fax: (602) 379-4413

Tribe | ICWA POC | Mailing address | Phone number | Fax number | Email address
Ak-Chin Indian Community | Carole Lopez, Enrollment Specialist | 42507 West Peters & Nall Road, Maricopa, AZ 85138 | (520) 568-1029 | (520) 568-1079 | clopez@ak-chin.nsn.us
Battle Mountain Band Council | Bertha Cazares, ICWA Coordinator | 37 Mountain View Drive, Battle Mountain, NV 89820 | (775) 455-1663 | (775) 635-8528 | bmbicwa@outlook.com
Chemehuevi Indian Tribe | Dawn Macelwain, ICWA Director | P.O. Box 1976, Havasu Lake, CA 92363 | (760) 858-5426 | (760) 858-5400 | citiwa@yahoo.com
Cocopah Indian Tribe | Rafael D. Morales, Jr., ICWA | 14515 South Veterans Drive, Somerton, AZ 85350 | (928) 627-3729; (928) 503-7055 | (928) 627-3316 | moralesr@cocopah.com
Colorado River Indian Tribes | Elizabeth Lorina-Mills, Deputy Attorney General | 26600 Mohave Road, Parker, AZ 85344 | (928) 669-1271 | (928) 669-5675 | emills@critdoj.com
Confederated Tribes of the Goshute Reservation | Debbie McCollum, ICWA Coordinator | HC61 Box 6104, Ibapah, UT 84034 | (435) 234-1178 | (435) 234-1162 | ctgriccwa@gmail.com
Duckwater Shoshone Tribe | Iskandar Alexandar, LCSW, Social Worker | P.O. Box 140087, Duckwater, NV 89314 | (775) 863-0222 | (775) 863-0142 | Iskandar.alexandar@ihs.gov
Elko Band Council of Te-Moak Tribe | Social Worker and ICWA Coordinator | 1745 Silver Eagle Drive, Elko, NV 89801 | (775) 738-9310 | (775) 778-3397 | ssworker@elkoband.org; icwa@elkoband.org
Ely Shoshone Tribe | Georgia Valdez, Social Services Worker | 16 Shoshone Circle, Ely, NV 89301 | (775) 289-4133 | (775) 289-3237
Fallon Paiute-Shoshone Tribe | Jennifer Pishion, Social Services Director | 1007 Rio Vista Drive, Fallon, NV 89406 | (775) 423-1215 | (775) 423-8960 | ssdirector@fpst.org
Fort McDermitt Paiute-Shoshone Tribe | Dee Crutcher, ICWA Advocate | P.O. Box 68, McDermitt, NV 89421 | (775) 532-8263 Ext. 111 | (775) 532-8060 | dee.crutcher@fmpst.org
Fort McDowell Yavapai Tribe | James Esquirell, ICWA Coordinator/CPS Worker, Wassaja Family Services | P.O. Box 17779, Fountain Hills, AZ 85269 | (480) 789-7990 | (480) 837-4809 | jesquirell@ftmcdowell.org
Gila River Indian Community | Sara Bissen, Child & Family Welfare Administrator | P.O. Box 427, Sacaton, AZ 85147 | (520) 562-3396 | (520) 562-3633 | Sara.bissen@gric.nsn.us
Gila River Pima-Maricopa Indian Community | Sara Bissen, Child & Family Welfare Administrator | P.O. Box 427, Sacaton, AZ 85147 | (520) 562-3396 | (520) 562-3633 | Sara.bissen@gric.nsn.us
Havasupai Tribe | Erika Marshall, ICWA Coordinator | P.O. Box 10, Supai, AZ 86435 | (928) 448-2661 |  | hticwa@havasupai-nsn.gov
Hualapai Tribe | Janet Silversmith, ICWA Worker | P.O. Box 480, Peach Springs, AZ 86434 | (928) 769-2269/2383/2384/2397 | (928) 769-2659
Kaibab Band of Paiute Indians | Vincent A. Toya | HC 65 Box 2, Fredonia, AZ 86022 | (928) 643-7245 | (888) 822-3734 | vtoya@kaibabpaiute-nsn.gov
Las Vegas Paiute Tribe | Ruth Fitz-Patrick, Social Services Caseworker | 1257 Paiute Circle, Las Vegas, NV 89106 | (702) 382-0784, #410 | (702) 384-5272 | rfitzpatrick@lvpaiute.com
Lovelock Paiute Tribe | Fran Machado, Social Services Director | 201 Bowean Street, Lovelock, NV 89419 | (775) 273-5081 | (775) 273-5151 | fmachado@lovelockpaiutetribe.com
Moapa Band of Paiutes | Darren Daboda, Chairman | One Lincoln Street, Moapa, NV 89025 | (702) 865-2787 | (702) 864-2875 | d_daboda@yahoo.com
Paiute Indian Tribe of Utah | Tyler Goddard, Behavioral Care Director | 440 North Paiute Drive, Cedar City, UT 84721 | (435) 586-1112 | (435) 867-1516 | tyler.goddard@ihs.gov
Pascua Yaqui Tribe | Tamara Walters, Assistant Attorney General | Office of the Attorney General, 7777 S. Camino Huivisim, Bldg. C, Tucson, AZ 85757 | (520) 883-5108 | (520) 883-5084 | tamara.walters@pascuayaqui-nsn.gov
Pyramid Lake Paiute Tribe | Charlene Dressler, Social Services Director | P.O. Box 256, Nixon, NV 89424 | (775) 574-1047 | (775) 574-1052 | cdressler@plpt.nsn.us
Quechan Indian Tribe | Cody Hartt, ICWA Specialist Assistant | P.O. Box 189, Yuma, AZ 85364 | (760) 570-0201 | (760) 572-2099 | icwaspecialist@quechantribe.com
Reno-Sparks Indian Colony | Adriana Botello, Human Services Director | 405 Golden Lane, Reno, NV 89502 | (775) 329-5071 | (775) 785-8758 | abotello@rsic.org
Salt River Pima-Maricopa Indian Community | Allison Miller, ICWA Coordinator | SRPMIC Social Services Division, 10005 East Osborn Road, Scottsdale, AZ 85256 | (480) 362-5645; (480) 362-7533 | (480) 362-5574 | Allison.Miller@srpmic-nsn.gov
San Carlos Apache Tribe | Aaron Begay, ICWA Coordinator | P.O. Box 0, San Carlos, AZ 85550 | (928) 475-2313 | (928) 475-2342 | abegay09@tss.scat-nsn.gov
San Juan Southern Paiute Tribe | Carlene Yellowhair, President | P.O. Box 2950, Tuba City, AZ 86045 | (928) 283-4762 | (928) 283-4762 | cyellowhairsjspt.president@outlook.com
Shoshone-Paiute Tribes of the Duck Valley Reservation | Zannetta Hanks, LSW, Social Worker | P.O. Box 219, Owyhee, NV 89832 | (775) 757-2921 Ext. 26 | (775) 757-2253 | hanks.zannetta@shopai.org
Skull Valley Band of Goshute Indians | Lori Bear, Chairwoman | P.O. Box 448, Grantsville, UT 84029 |  | (435) 882-4889 | ibear@svgoshutes.com
South Fork Band of Te-Moak Tribe | Debbie Honeyestewa, Interim Social Worker | 21 Lee, B-13, Spring Creek, NV 89815 | (775) 744-4273 | (775) 744-4523 | debbiehoneyestewa@yahoo.com
Summit Lake Paiute Tribe | Page Linton, Chairwoman | 1001 Rock Blvd., Sparks, NV 89431 | (775) 827-9670 | (775) 827-9678 | page.linton@summitlaketribe.org
The Hopi Tribe | Eva Sekayumptewa, MSW, Social Services Program, Clinical Supervisor | P.O. Box 945, Polacca, AZ 86042 | (928) 737-1800 | (928) 737-2697 |
Tohono O'Odham Nation | Laura Berglan, Acting Attorney General | P.O. Box 830, Sells, AZ 85634 | (520) 383-3410 | (520) 383-2689 | laura.berglan@tonation-nsn.gov
Tonto Apache Tribe of Arizona | Brian Echols, Social Services Director | T.A.R. #30, Payson, AZ 85541 | (928) 474-5000 Ext. 8120 | (928) 474-4159 | bechols@tontoapache.org
Ute Indian Tribe | Floyd M. Wyasket, Social Services Director | Box 190, Fort Duchesne, UT 84026 | (435) 725-4026 or (435) 823-0141 | (435) 722-5030 | floydw@utetribe.com
Walker River Paiute Tribe | Elliott Aguilar, ICWA Specialist | Social Services Department, P.O. Box 146, 1029 Hospital Road, Schurz, NV 89427 | (775) 773-2058 Ext. 11 | (775) 773-2096 | eaguilar@wrpt.gov
Wells Band Council of Te-Moak Tribe | Dialina Blackhat, Social Worker/ICWA Coordinator | P.O. Box 809, Wells, NV 89835 | (775) 345-3045 Ext. 1009 | (775) 752-2179 | wellsbandssicwa@gmail.com
White Mountain Apache Tribe of the Fort Apache Reservation | Cora Hinton, ICWA Representative/CPS Supervisor | P.O. Box 1870, Whiteriver, AZ 85941 | (928) 338-4164 | (928) 338-1469 | chinton@wmat.us
Winnemucca Tribe | Judy Rojo, Chairperson | 595 Humboldt Street, Reno, NV 89509 | (775) 329-5800 | (775) 329-5819
Yavapai-Apache Nation of the Camp Verde Indian Reservation | Delight Lyons, ICWA Coordinator | 2400 West Datsi Street, Camp Verde, AZ 86322 | (928) 649-7108 | (928) 567-6832 | dkplunkett@yan-tribe.org
Yavapai-Prescott Indian Tribe | Virgil R. Amos, Family Support Supervisor | 530 East Merritt, Prescott, AZ 86301 | (928) 515-7351 | (928) 541-7945 | vamos@ypit.com
Yomba Shoshone Tribe | Samantha Gentry, Social Services Eligibility Worker | HC 61 Box 6275, Austin, NV 89310 | (775) 964-2463 Ext. 107 | (775) 964-1352 | yombasocialservices@gmail.com

B. Tribal Agents by Tribal Affiliation

See: http://www.bia.gov/WhoWeAre/BIA/OIS/HumanServices/index.htm.

Dated: February 27, 2017.
Michael S. Black,
Acting Assistant Secretary—Indian Affairs.

[FR Doc. 2017-04546 Filed 3-7-17; 8:45 am]

BILLING CODE 4337-15-P